ENVIRONMENTAL PROTECTION AGENCY

[OPPT-2002-0026; FRL-7183-7]

Fiftieth Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its 50th ITC Report to the Administrator of EPA on May 28, 2002. In the 50th ITC Report, which is included with this notice, the ITC is rescinding its request in the 48th ITC Report to EPA for the addition to the TSCA section 8(a) Preliminary Assessment Information Reporting (PAIR) rule of 12 of the 15 Degradation Effects Bioconcentration Information Testing Strategies (DEBITS) chemicals. However, the ITC is asking EPA to add 3 chemicals to the PAIR rule and 3 chemicals to the TSCA section 8(d) Health and Safety Data Reporting (HaSDR) rule.

The ITC is adding 2 chemicals and removing 36 chemicals from the Priority Testing List.

The ITC is soliciting comments on its Voluntary Information Submissions Innovative Online Network (VISION) and Voluntary Information Submissions Policy (VISP).

DATES: Comments, identified by docket ID number OPPT-2002-0026, must be received on or before August 29, 2002.

ADDRESSES: Comments may be submitted by mail, electronically, or in person. Please follow the detailed instructions for each method as provided in Unit I. of the SUPPLEMENTARY INFORMATION. To ensure proper receipt by EPA, it is imperative that you identify docket control number OPPT-2002-0026 in the subject line on the first page of your response.

FOR FURTHER INFORMATION CONTACT: For general information contact: Barbara Cunningham, Acting Director, Environmental Assistance Division (7408M), Office of Pollution Prevention and Toxics, Environmental Protection Agency, 1200 Pennsylvania Ave., NW., Washington, DC 20460; telephone numbers: (202) 554-1404; e-mail address: TSCA-Hotline@epa.gov.

For technical information contact: John D. Walker, ITC Executive Director (7401M), Environmental Protection Agency, 1200 Pennsylvania Ave., NW., Washington, DC 20460; telephone number: (202) 564-7526; fax: (202) 564-7528; e-mail address: walker.johnd@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

You may also access additional information about the ITC and the TSCA testing program through the web site for the Office of Prevention, Pesticides and Toxic Substances (OPPTS) at http://www.epa.gov/opptsfrs/home/opptsim.htm/, or go directly to the ITC home page at http://www.epa.gov/opptintr/itc/.

2. In person. The Agency has established an official record for this action under docket control number OPPT-2002-0026. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPT-2002-0026 in the subject line on the first page of your response.

1. By mail. Submit your comments to: Document Control Office (7407M), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: oppt.ncic@epa.gov, or mail your computer disk to the address identified above. Do not submit any information electronically that you consider to be CBI. Electronic comments must be submitted as an ASCII file avoiding the use of special characters and any form of encryption. Comments and data will also be accepted on standard disks in WordPerfect 6.1/8.0 or ASCII file format. All comments in electronic form must be identified by docket control number OPPT-2002-0026. Electronic comments may also be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person listed under FOR FURTHER INFORMATION CONTACT.

E. What Should I Consider as I Prepare My Comments for EPA?

We invite you to provide your views and comments on the 50th ITC Report. You may find the following suggestions helpful for preparing your comments:

1. Explain your views as clearly as possible.

2. Describe any assumptions that you used.

3. Provide copies of any technical information and/or data you used that support your views.

4. Provide specific examples to illustrate your concerns.

5. Offer alternatives for improvement.

6. To ensure proper receipt by EPA, be sure to identify the docket control number assigned to this action in the subject line on the first page of your response. You may also provide the name, date, and Federal Register citation.

II. Background

The Toxic Substances Control Act (TSCA) (15 U.S.C. 2601 et seq.) authorizes the Administrator of the EPA to promulgate regulations under TSCA section 4(a) requiring testing of chemicals and chemical groups in order to develop data relevant to determining the risks that such chemicals and chemical groups may present to health or the environment. Section 4(e) of TSCA established the ITC to recommend chemicals and chemical groups to the Administrator of the EPA for priority testing consideration. Section 4(e) of TSCA directs the ITC to revise the TSCA section 4(e) Priority Testing List at least every 6 months.

A. The 50th ITC Report

The 50th ITC Report was transmitted to EPA's Administrator on May 28, 2002, and is included in this notice.

In the 50th ITC Report, the ITC:

1. Rescinds its request in the 48th ITC Report to EPA for the addition to the PAIR rule of 12 of the 15 DEBITS chemicals. The 12 DEBITS chemicals are 3 “chloroalkenes,” 5 “chlorinated trihalomethyl pyridines,” 1 “trihaloethylidene bisbenzene” (benzene, 1,1'-(2,2,2-trichloroethylidene)bis-, CAS No. 2971-22-4); and 3 “trichlorophenyldihydropyrazols” (benzamide, 3-amino-N-[4,5-dihydro-5-oxo-1-(2,4,6-trichlorophenyl)-1H-pyrazol-3-yl]-, CAS No. 40567-18-8); 3H-pyrazol-3-one, 5-((5-amino-2-chlorophenyl)amino)-2,4-dihydro-2-(2,4,6-trichlorophenyl)-, CAS No. 53411-33-9; and benzamide, N-(4,5-dihydro-5-oxo-1-(2,4,6-trichlorophenyl)-1H-pyrazol-3-yl)-3-nitro-, CAS No. 63134-25-8. The ITC is not rescinding its request in the 48th ITC Report to add benzenamine, 3-chloro-2,6-dinitro-N,N-dipropyl-4-(trifluoromethyl)-, CAS No. 29091-20-1; 3H-pyrazol-3-one, 5-((2-chloro-5-nitrophenyl)amino)-2,4-dihydro-2-(2,4,6-trichlorophenyl)-, CAS No. 30707-68-7; and phenol, 4,4'-[2,2,2-trifluoro-1-(trifluoromethyl)ethylidene]bis-, CAS No. 1478-61-1 to the PAIR rule.

2. Adds 3 chemicals to the PAIR rule: 1 DEBITS chemical (stannane, dimethylbis[(1-oxoneodecyl)oxy]-, CAS No. 68928-76-7) from the 49th Report; 1 DEBITS chemical (benzene, 1,3,5-tribromo-2-(2-propenyloxy)-, CAS No. 3278-89-5) and 1-triazene, 1,3-diphenyl-, CAS No. 136-35-6 from the 50th ITC Report.

3. Adds stannane, dimethylbis[(1-oxoneodecyl)oxy]-, CAS No. 68928-76-7; benzene, 1,3,5-tribromo-2-(2-propenyloxy)-, CAS No. 3278-89-5; and 1-triazene, 1,3-diphenyl-, CAS No. 136-35-6 to the TSCA section 8(d) HaSDR rule.

4. Solicits comments on its VISION and VISP.

B. Status of the Priority Testing List

The ITC is adding benzene, 1,3,5-tribromo-2-(2-propenyloxy)- (CAS No. 3278-89-5) and 1-triazene, 1,3-diphenyl- (CAS No. 136-35-6) to the Priority Testing List. The ITC is removing acetone, 9 “alkylphenols” and “alkylphenol ethoxylates” added in the 37th ITC Report, 7 “nonylphenol ethoxylates” added in the 39th ITC Report, 4 “alkylphenols” and “alkylphenol ethoxylates” added in the 41st ITC Report, 3 DEBITS chemicals added in the 46th ITC Report, 3 DEBITS chemicals (3 “chloroalkenes”) added in the 47th ITC Report, and 9 DEBITS chemicals added in the 48th ITC Report from the Priority Testing List. The current TSCA 4(e) Priority Testing List as of May 2002 can be found in Table 1 of the 50th ITC Report which is included in this notice.

List of Subjects

Environmental protection, Chemicals, Hazardous substances.

Dated: July 22, 2002.
Charles M. Auer,
Director, Chemical Control Division, Office of Pollution Prevention and Toxics.

Fiftieth Report of the TSCA Interagency Testing Committee to the Administrator, U.S. Environmental Protection Agency

Table of Contents

Summary

I. Background

II. TSCA Section 8 Reporting

A. TSCA Section 8 Reporting Rules

B. ITC's Use of TSCA Section 8 and Other Information

C. Promoting More Efficient Use of Information Submission Resources

D. Coordinating Information Requests

E. Requests to Promulgate TSCA Section 8(a) PAIR and Section 8(d) HaSDR Rules

III. ITC's Activities During this Reporting Period (November 2001 to April 2002)

A. VISION

B. DEBITS

IV. Revisions to the TSCA Section 4(e) Priority Testing List

A. Chemicals Added to the Priority Testing List

1. Benzene, 1,3,5-tribromo-2-(2-propenyloxy)-.

2. 1-Triazene, 1,3-diphenyl.

B. Chemicals Removed From the Priority Testing List

1. Acetone.

2. Twenty alkylphenols and alkylphenol ethoxylates.

3. Three DEBITS chemicals from the 46th ITC Report.

4. Three DEBITS chemicals from the 47th ITC Report.

5. Nine DEBITS chemicals from the 48th ITC Report.

V. References

VI. The TSCA Interagency Testing Committee

SUMMARY

In this 50th ITC Report, the ITC is rescinding its request to the EPA to add 12 Degradation Effects Bioconcentration Information Testing Strategies (DEBITS) chemicals to the TSCA section 8(a) Preliminary Assessment Information Reporting (PAIR) rule (3 DEBITS chemicals from the 47th ITC Report and 9 DEBITS chemicals from the 48th ITC Report). However, the ITC is asking the EPA to add 6 chemicals to the PAIR rule, 3 DEBITS chemicals (3-chloro-2,6-dinitro-N,N-dipropyl-4-(trifluoromethyl)-benzeneamine, 3H-pyrazol-3-one; 5-((2-chloro-5-nitrophenyl)amino)-2,4-dihydro-2-(2,4,6-trichlorophenyl)-; and phenol, 4,4'-[2,2,2-trifluoro-1-(trifluoromethyl)ethylidene]bis-), from the 48th ITC Report, 1 DEBITS chemical (stannane, dimethylbis[(1-oxoneodecyl)oxy]-), from the 49th ITC Report, 1 DEBITS chemical (benzene, 1,3,5-tribromo-2-(2-propenyloxy)-), and from the 50th ITC Report, 1-triazene, 1,3-diphenyl. The ITC is also asking the EPA to add stannane, dimethylbis[(1-oxoneodecyl)oxy]-; benzene, 1,3,5-tribromo-2-(2-propenyloxy)-; and 1-triazene, 1,3-diphenyl to the TSCA section 8(d) Health and Safety Data Reporting (HaSDR) rule.

The ITC is adding benzene, 1,3,5-tribromo-2-(2-propenyloxy)- and 1-triazene, 1,3-diphenyl to the Priority Testing List. The ITC is removing acetone, 9 alkylphenols and alkylphenol ethoxylates from the 37th ITC Report, 7 nonylphenol ethoxylates from the 39th ITC Report, 4 alkylphenols and alkylphenol ethoxylates from the 41st ITC Report, 3 DEBITS chemicals from the 46th ITC Report, 3 DEBITS chemicals from the 47th ITC Report, and 9 DEBITS chemicals from the 48th ITC Report and from the Priority Testing List.

The ITC is soliciting comments on its Voluntary Information Submissions Innovative Online Network (VISION) and Voluntary Information Submissions Policy (VISP).

The revised TSCA section 4(e) Priority Testing List follows as Table 1 of this appendix.

Table 1.—The TSCA Section 4(e) Priority Testing List (May 2002)
Report | Date | Chemical name/Group | Action
28 | May 1991 | Chemicals with Low Confidence Reference Dose (RfD) Thiophenol | Designated
31 | January 1993 | 13 Chemicals with insufficient dermal absorption rate data | Designated
32 | May 1993 | 16 Chemicals with insufficient dermal absorption rate data | Designated
35 | November 1994 | 4 Chemicals with insufficient dermal absorption rate data | Designated
37 | November 1995 | 6 Alkylphenols and alkylphenol ethoxylates | Recommended
39 | November 1996 | 1 Nonylphenol ethoxylate | Recommended
41 | November 1997 | 3 Alkylphenols and alkylphenol ethoxylates | Recommended
42 | May 1998 | 3-Amino-5-mercapto-1,2,4-triazole | Recommended
42 | May 1998 | Glycoluril | Recommended
46 | May 2000 | 8 Nonylphenol polyethoxylate degradation products | Recommended
47 | November 2000 | 37 Indium compounds | Recommended
47 | November 2000 | Pentachlorothiophenol | Recommended
48 | May 2001 | Phenol, 4,4'-[2,2,2-trifluoro-1-(trifluoromethyl)ethylidene]bis- | Recommended
48 | May 2001 | 3-Chloro-2,6-dinitro-N,N-dipropyl-4-(trifluoromethyl)-benzeneamine | Recommended
48 | May 2001 | 3H-Pyrazol-3-one, 5-[(2-chloro-5-nitrophenyl)amino]-2,4-dihydro-2-(2,4,6-trichlorophenyl) | Recommended
49 | November 2001 | Stannane, dimethylbis[(1-oxoneodecyl)oxy]- | Recommended
50 | May 2002 | Benzene, 1,3,5-tribromo-2-(2-propenyloxy)- | Recommended
50 | May 2002 | 1-Triazene, 1,3-diphenyl | Recommended

I. Background

The ITC was established by section 4(e) of TSCA “to make recommendations to the Administrator respecting the chemical substances and mixtures to which the Administrator should give priority consideration for the promulgation of a rule for testing under section 4(a).... At least every six months ..., the Committee shall make such revisions to the Priority Testing List as it determines to be necessary and transmit them to the Administrator together with the Committee's reasons for the revisions” (Public Law 94-469, 90 Stat. 2003 et seq., 15 U.S.C. 2601 et seq.). Since its creation in 1976, the ITC has submitted 49 semi-annual (May and November) reports to the EPA Administrator transmitting the Priority Testing List and its revisions. ITC Reports are available from the ITC's web site (http://www.epa.gov/opptintr/itc) within a few days of submission to the Administrator and from http://www.epa.gov/fedrgstr after publication in the Federal Register. The ITC meets monthly and produces its revisions to the Priority Testing List with administrative and technical support from the ITC staff, ITC members and their U.S. Government organizations, and contract support provided by EPA. ITC members and staff are listed at the end of this Report.

The 50th ITC Report marks a significant milestone for the ITC. Since its first meeting on February 5, 1977, the ITC has convened 425 meetings, screened thousands of chemicals, and reviewed more than 2,500 organic, organo-metallic, and inorganic chemicals to identify those with suspicions of toxicity, environmental release, and consumer or occupational exposures, but few, if any data (Ref. 14). In its 50 Reports, the ITC has added to the Priority Testing List and recommended testing or information reporting for 81 individual chemicals and 80 chemical groups (about 1,400 chemicals) for priority consideration by the EPA Administrator. In response, the EPA has published 200 Federal Register notices and reviewed hundreds of test protocols and data submissions and the U.S. chemical industry has developed over 1,000 tests and submitted more than 75,000 unpublished health and safety studies to the EPA.

As of 1992, testing was ongoing, proposed, under consideration, required or voluntarily conducted for 85% of the chemicals and chemical groups recommended by the ITC (Ref. 14). Many of the data developed as a result of ITC's recommendations have been incorporated into Material Safety Data Sheets, used by U.S. Government and industry organizations to develop hazard assessments and included in the Organization for Economic Cooperation and Development (OECD) Screening Information Data Set (SIDS) dossiers (e.g., 100% of the chemicals in phase I of the OECD SIDS program were reviewed by the ITC prior to preparation of SIDS dossiers), (Ref. 14). Well-known examples of chemicals for which data have been developed as a result of ITC recommendations include alkyl phthalates, chlorinated paraffins and hexachlorobutadiene (Ref. 1), acrylamide, aryl phosphates, methylene chloride and trichloroethane (Ref. 2), chlorinated benzenes (Refs. 1 and 3), benzidine-, o-dianisidine- and o-toluidine-based dyes (Ref. 4), phenylenediamines (Ref. 5), alkyl tins and fluoroalkenes (Ref. 6), octylphenol (Ref. 7), bisphenol A (Ref. 8), tetrabromobisphenol A (Ref. 9), methyl tertiary butyl ether or MTBE (Ref. 10), and brominated flame retardants, including brominated diphenyl ethers (Ref. 11).

II. TSCA Section 8 Reporting

A. TSCA Section 8 Reporting Rules

Following receipt of the ITC's Report (and the revised Priority Testing List) by the EPA Administrator, the EPA's Office of Pollution Prevention and Toxics (OPPT) promulgates TSCA section 8(a) PAIR and TSCA section 8(d) HaSDR rules for chemicals added to the Priority Testing List. The PAIR rule requires producers and importers of Chemical Abstract Service (CAS)-numbered chemicals added to the Priority Testing List to submit production and exposure reports under TSCA section 8(a). The HaSDR rule requires producers, importers, and processors of all chemicals (including those with no CAS numbers) added to the Priority Testing List to submit unpublished health and safety studies under TSCA section 8(d) that must be in compliance with the revised HaSDR rule (63 FR 15765, April 1, 1998) (FRL-5750-4) codified at 40 CFR part 716. All submissions must be received by the EPA within 90 days of the reporting rules Federal Register publication date. The reporting rules are automatically promulgated by OPPT unless otherwise requested by the ITC. Under the ITC's VISION and VISP, promulgation of HaSDR rules for most chemicals that are added to the Priority Testing List has been delayed to allow voluntary submission of studies of specific interest (see section II.C. for further details on VISION and VISP).

B. ITC's Use of TSCA Section 8 and Other Information

The ITC reviews the TSCA section 8(a) PAIR rule reports, TSCA section 8(d) HaSDR rule studies and other information that becomes available after the ITC adds chemicals to the Priority Testing List. Other information includes TSCA section 4(a) and 4(d) studies; TSCA section 8(c) submissions; TSCA section 8(e) “substantial risk” notices; “For Your Information” (FYI) submissions; ITC voluntary submissions, unpublished data submitted to and from U.S. Government organizations represented on the ITC; published papers, as well as use, exposure, effects, and persistence data that are voluntarily submitted to the ITC by manufacturers, importers, processors, and users of chemicals recommended by the ITC. The ITC reviews this information and determines if data needs should be revised, if chemicals should be removed from the Priority Testing List, or if recommendations should be changed to designations.

C. Promoting More Efficient Use of Information Submission Resources

To promote more efficient use of information submission resources, the ITC developed the VISP and VISION. The VISP provides examples of data needed by ITC member U.S. Government organizations, examples of studies that should not be submitted, the milestones for submitting information, guidelines for using the TSCA Electronic HaSDR Form and instructions for electronically submitting full studies. The VISP is described in the ITC's 41st Report (63 FR 17658, April 9, 1998) (FRL-5773-5) and is accessible through the world wide web (http://www.epa.gov/opptintr/itc/visp.htm ). To facilitate the implementation of the VISP, the ITC developed the VISION. The VISION is described in the ITC's 42nd ITC Report (63 FR 42554, August 7, 1998) (FRL-5797-8) and is also accessible through the world wide web (http://www.epa.gov/opptintr/itc/vision.htm). The VISION includes links to the TSCA Electronic HaSDR Form (http://www.epa.gov/opptintr/.er/hasd.htm) including revised section 3.2 of the TSCA Electronic HaSDR Form to provide more use and exposure information (for details see the 46th ITC Report; 65 FR 75552, December 1, 2000) (FRL-6594-7).

The ITC requests that chemical producers, importers, processors, and users provide information electronically via VISION on chemicals for which the ITC is soliciting voluntary information. If the ITC does not receive voluntary information submissions to meet its data needs according to the procedures in VISP, the ITC may then ask the EPA to add those chemicals to a TSCA section 8(d) HaSDR rule to determine if there are unpublished data to meet those needs (see section III.A. that requests comments on the need to continue VISION and VISP).

D. Coordinating Information Rrequests

To avoid duplicate reporting, the ITC carefully coordinates its information solicitations and reporting requirements with other national and international testing programs, (e.g., the National Toxicology Program, the OECD SIDS program and the EPA's High Production Volume (HPV) Challenge program). The ITC is currently focusing its efforts on persistent non-HPV chemicals that have bioconcentration and exposure potential, but few, if any, publicly available ecological or health effects data. The ITC is working with the EPA Persistent Bioaccumulative Toxics (PBT), Endocrine Disruption, and perfluoroctylsulfonate chemicals workgroups to identify potentially toxic chemicals with few data to complement the objectives of those programs.

E. Requests to Promulgate TSCA Section 8(a) PAIR and Section 8(d) HaSDR Rules

The ITC asked the EPA to add 3 chloroalkenes to the TSCA section 8(a) PAIR rule in its 48th ITC Report (66 FR 51276, October 5, 2001) (FRL-6786-7). In addition, the ITC asked the EPA to add 5 chlorinated trihalomethyl pyridines, 2 trihaloethylidene bisbenzenes, 4 trichlorophenyldihydropyrazols, and 3-chloro-2,6-dinitro-N,N-dipropyl-4-(trifluoromethyl)-benzeneamine to the TSCA section 8(a) PAIR rule in its 48th ITC Report (66 FR 51276, October 5, 2001).

At this time, the ITC is rescinding its request to add the 3 chloroalkenes; 5 chlorinated trihalomethyl pyridines; 1 of the trihaloethylidene bisbenzenes (benzene, 1,1'-(2,2,2-trichloroethylidene)bis-, CAS No. 2971-22-4); and 3 of the trichlorophenyldihydropyrazols (benzamide, 3-amino-N-[4,5-dihydro-5-oxo-1- (2,4,6-trichlorophenyl)-1H-pyrazol-3-yl, CAS No. 40567-18-8, 3H-pyrazol-3-one, 5-((5-amino-2-chlorophenyl)amino)-2,4-dihydro-2-(2,4,6-trichlorophenyl)-, CAS No. 53411-33-9, and benzamide, N-(4,5-dihydro-5-oxo-1-(2,4,6-trichlorophenyl)-1H-pyrazol-3-yl)-3-nitro-, CAS No. 63134-25-8) to the TSCA section 8(a) PAIR rule, either because no production or importation data were submitted to the EPA in response to the 1998 Inventory Update Rule (IUR) or because the predicted bioconcentration factors (BCFs) were judged to be too low to warrant priority consideration at this time.

The ITC is not rescinding its request to add 3-chloro-2,6-dinitro-N,N-dipropyl-4- (trifluoromethyl)-benzeneamine (CAS No. 29091-20-1), 3H-pyrazol-3-one, 5-((2-chloro-5- nitrophenyl)amino)-2,4-dihydro-2-(2,4,6-trichlorophenyl)- (CAS No. 30707-68-7), and phenol, 4,4'-[2,2,2-trifluoro-1-(trifluoromethyl)ethylidene]bis- (CAS No. 1478-61-1) to the TSCA section 8(a) PAIR rule.

At this time, the ITC is also asking the EPA to add stannane, dimethylbis[(1-oxoneodecyl)oxy]- (CAS No. 68928-76-7), benzene, 1,3,5-tribromo-2-(2-propenyloxy)- (CAS No. 3278-89-5) and 1-triazene, 1,3-diphenyl (CAS No.136-35-6) to the TSCA section 8(a) PAIR rule. Stannane, dimethylbis[(1-oxoneodecyl)oxy]- and benzene, 1,3,5-tribromo-2-(2-propenyloxy)- are being added to the TSCA section 8(a) PAIR rule, because they are estimated to persist and have predicted BCFs of 8,650 and 4,019, respectively, few toxicity data and a need for additional use and exposure data, beyond that provided by the manufacturers. 1-Triazene, 1,3-diphenyl is being added to the TSCA section 8(a) PAIR rule, because it is a predicted carcinogen based on its metabolism and because the ITC needs occupational exposure data.

At this time, the ITC is also asking the EPA to add stannane, dimethylbis[(1-oxoneodecyl)oxy]-, benzene, 1,3,5-tribromo-2-(2-propenyloxy)- and 1-triazene, 1,3-diphenyl to the TSCA section 8(d) HaSDR rule. Stannane, dimethylbis[(1-oxoneodecyl)oxy]- is being added to the TSCA section 8(d) HaSDR rule, because the ITC needs to know if there are other toxicity data in addition to that described in section IV.A.2. and 3. of the 49th Report (67 FR 10298, March 6, 2002) (FRL-6820-8). The ITC needs ecological effects and more health effects data; only studies where stannane, dimethylbis[(1-oxoneodecyl)oxy]- is ≥90% of the test substance by weight should be submitted.

Benzene, 1,3,5-tribromo-2-(2-propenyloxy)- is being added to the TSCA section 8(d) HaSDR rule, because the ITC needs to know if there are other toxicity data in addition to that described in section IV.A.1.iii. of this Report. The ITC needs ecological effects and more health effects data; only studies where benzene, 1,3,5- tribromo-2-(2-propenyloxy)- is ≥90% of the test substance by weight should be submitted.

1-Triazene, 1,3-diphenyl is being added to the TSCA section 8(d) HaSDR rule, because the ITC needs pharmacokinetics, genotoxicity, subchronic and chronic toxicity, reproductive, and developmental toxicity data. Only studies where diazoaminobenzene is ≥90% of the test substance by weight should be submitted.

III. ITC's Activities During this Reporting Period (November 2001 to April 2002)

A. VISION

The ITC is the only organization for which the EPA can promulgate direct TSCA section 8(d) HaSDR final rules. As such, when the EPA convened public meetings to discuss revisions to the TSCA section 8(d) HaSDR rule (63 FR 15765, April 1, 1998) (FRL-5750-4), the ITC was invited to provide and respond to comments on this rule. One of the most consistent comments by the chemical industry was that the ITC should offer more opportunities to provide voluntary information submissions (to avoid the mandatory requirements of submitting information in response to a TSCA section 8(d) HaSDR rule). In response to these chemical industry requests, the ITC developed VISP, VISION, and the TSCA Electronic HaSDR Form, and is currently evaluating their effectiveness.

The ITC developed VISP, VISION, and the TSCA Electronic HaSDR Form as tools to provide a more cost-effective method for chemical producers, importers, processors, and users of ITC-recommended chemicals to provide voluntary information. With the exception of 3 trade organizations, the Alkylphenols & Ethoxylates Research Council (APERC), the Color Pigment Manufacturers Association (CPMA), and the Ecological and Toxicological Association of Organic Dye Manufacturers (ETAD), and 4 manufacturers, 3M Specialty Materials, Ciba Speciality Chemicals, E. I. du Pont de Nemours and Company, and Rohm and Haas Company, these tools have not been used by chemical producers, importers, processors, and users of ITC-recommended chemicals. The ITC has received voluntary information submissions on <15% of the approximately 500 chemicals for which the ITC has solicited voluntary information since implementing the VISP and VISION, in effect delaying the ITC's ability to obtain the information it needs to make decisions and meet U.S. Government data needs.

The ITC recognizes that there are increasing demands on the chemical industry to provide information in response to voluntary initiatives, e.g., the OECD SIDS program, EPA HPV Challenge program and Voluntary Children's Chemical Evaluation Program (VCCEP). The ITC supports and coordinates its voluntary information requests with these programs. However, as a statutory-mandated organization charged with screening and identifying potentially hazardous chemicals, the ITC also recognizes that the chemical industry has the responsibility under TSCA and under the principles of Responsible Care® and Chemical Right-to-Know, to promptly and voluntarily provide information on the ITC's recommended chemicals to be used in subsequent hazard, exposure, and risk assessments by the U.S. Government organizations represented on the ITC.

The ITC is considering whether to continue the use of the VISP, VISION, and the TSCA Electronic HaSDR Form for chemicals added to the Priority Testing List, as the lack of use of these tools has resulted in substantial delays in obtaining information that could be used to meet the ITC's data needs. The ITC requests comments on procedures that could be implemented to make these existing tools or other procedures for submitting voluntary information more effective. Comments in a word processing file attached to an e-mail to walker.johnd@epa.gov are preferred, but the ITC will also accept comments submitted to Dr. John D. Walker at the address listed at the end of this Report by September 30, 2002.

B. DEBITS

In its 45th through 49th ITC Reports, the ITC described its strategies to screen and evaluate chemicals with persistence and bioconcentration potential. These activities are referred to as DEBITS. DEBITS provides a means to prioritize chemicals for information reporting and testing based on degradation and bioconcentration potential and availability of effects data.

Prior to this reporting period the ITC made information reporting or testing deferral decisions on 206 DEBITS chemicals. During this reporting period, the ITC completed its review of the remaining 252 DEBITS chemicals, including the 9 chemicals discussed in this section:

1. Benzene, 1,3,5-tribromo-2-(2-propenyloxy)- (CAS No. 3278-89-5),

2. 2,9-Dimethylquinacridone (CAS No. 980-26-7),

3. 1,2-Ethanediyl tetrakis (2-chloro-1- methylethyl) phosphate (CAS No. 34621-99-3),

4. Oxirane, 2,2',2''-(methylidynetris(phenyleneoxymethylene))(tris- (CAS No. 66072-38-6),

5. P-cresol, 2,6-di-tert-butyl-alpha-(dimethylamino) (CAS No. 88-27-7),

6. Spiro isobenzofuran-1(3H),9'-9H xanthen-3-one, 3',6'-bis(ethylamino)-2',7'-dimethyl- (CAS No. 41382-37-0),

7. 1H-indole-2-carboxaldehyde, 2,3-dihydro-2-hydroxy-1,3,3-trimethyl-(4-methoxyphenyl) methylhydrazone (CAS No. 81241-99-8),

8. Phenoxazin-5-ium, 3,7-bis(diethylamino)-, (T-4)-tetrachlorozincate(2-) (2:1) (CAS No. 63589-47-9), and

9. Oxirane, 2-[2-(4-chlorophenyl)ethyl]-2-(1,1-dimethylethyl)- (CAS No. 80443-63-6).

The ITC is adding benzene, 1,3,5-tribromo-2-(2-propenyloxy)- to the Priority Testing List as discussed in section IV.A.1. The ITC deferred making a testing recommendation for 2,9-dimethylquinacridone because its absorption potential into mammalian tissues is expected to be low based on absorption data for the structurally related EPA HPV Challenge chemical, 5,12-dihydroquino(2,3-b)acridine-7,14-dione (CAS No. 1047-16-1). 1,2-Ethanediyl tetrakis (2-chloro-1- methylethyl) phosphate was previously removed from the Priority Testing List in the ITC's 36th ITC Report (60 FR 42982, August 17, 1995) (FRL-4965-6).

Oxirane, 2,2',2''-(methylidynetris (phenyleneoxymethylene))tris- was deferred for testing because its predicted hydrolysis half life was 3 days. The ITC deferred making testing recommendations for p-cresol, 2,6-di-tert-butyl-alpha-(dimethylamino); spiro isobenzofuran-1(3H),9'-9H xanthen-3-one, 3',6'-bis(ethylamino)-2',7'-dimethyl-; 1H-indole-2-carboxaldehyde, 2,3-dihydro-2-hydroxy-1,3,3-trimethyl-(4-methoxyphenyl) methylhydrazone; and phenoxazin-5-ium, 3,7-bis(diethylamino)-, (T-4)-tetrachlorozincate(2-) (2:1) because of their low-exposure potential. Oxirane, 2-[2-(4-chlorophenyl)ethyl]-2-(1,1-dimethylethyl)- was deferred for testing because it is likely to be tested under one of the voluntary HPV chemical testing programs.

The remaining 243 DEBITS chemicals deferred for testing include 7 DEBITS chemicals with predicted BCFs <1,000 (see Table 2 of this appendix), 28 EPA HPV Challenge program DEBITS chemicals (see Table 3 of this appendix), and 208 non-HPV DEBITS chemicals with predicted BCFs of 3-13 (see Table 4 of this appendix).

Table 2.—Seven DEBITS Chemicals With Predicted BCFs <1,000
CAS No. | Chemical name | Structural class | BCF
827-94-1 | 2,6-Dibromo-4-nitrobenzenamine | 2,6-Dibromoanilines | 64
90-93-7 | Bis[4-(Dimethylamino)phenyl] methanone | 4,4'-Substituted benzophenones | 467
6408-72-6 | 9,10-Anthracenedione, 1,4-diamino-2,3-diphenoxy- | Diaminoanthraquinones | 585
19014-53-0 | 9,10-Anthracenedione,1-amino-2-(4-((hexahydro-2-oxo-1H-azepin-1-yl)methyl)phenoxy)-4-hydroxy- | Hydroxyamino anthraquinones | 336
596-03-2 | Spiro isobenzofuran-1(3H),9'-9Hxanthen-3-one,4',5'-dibromo-3;,6'- dihydroxy-, disodium salt | Spiro[isobenzofuran-1(3H),9'-[9H]xanthen]-3-ones | 709
2280-49-1 | N-Phenyl-N-(trichloromethylsulfenyl)benzene sulfonamide |  | 598
20941-65-5 | Tetrakis(diethylcarbamodithioato-S,S')tellurium |  | 478

Table 3.—Twenty-eight EPA HPV Challenge Program DEBITS Chemicals
CAS No. | Chemical name
Structural Class—[(2-Hydroxy-1-naphthalenyl)azo]benzenesulfonate salts
7023-61-2 | 2-Naphthalenecarboxylic acid, 4-((5-chloro-4-methyl-2-sulfophenyl)azo)-3-hydroxy-, calcium salt (1:1)
7585-41-3 | 2-Naphthalenecarboxylic acid, 4-((5-chloro-4-methyl-2-sulfophenyl)azo)-3-hydroxy-, barium salt (1:1)
Structural Class—[[4-[(Phenyl)azo]phenyl]azo] benzenesulfonic acid salts
68555-86-2 | Benzenesulfonic acid, 4-((5-methoxy-4-((4-methoxyphenyl)azo)-2-methylphenyl)azo)-, sodium salt
Structural Class— 4,4'-bis(Triazinylamino)stilbene-2,2'-disulfonic acid salts
5182-81-9 | 2,2'-Stilbenedisulfonic acid, 4,4'-bis((4-anilino-6-morpholino-s-triazin-2-yl)amino)-, disodium salt
67786-25-8 | Benzenesulfonic acid, 2,2'-(1,2-ethenediyl)bis(5-((4-(bis(2-hydroxypropyl)amino)-6-((4-sulfophenyl) amino)-1,3,5-triazin-2-yl)amino)-, tetrasodium salt
Structural Class - 4-Amino-4'-nitroazobenzenes
3618-72-2 | Acetamide, -(5-(bis(2-(acetyloxy)ethyl)amino)-2-((2-bromo-4,6-dinitrophenyl)azo)-4-methoxyphenyl)-
Structural Class—Halogenated cycloalkenes
77-47-4 | 1,3-Cyclopentadiene, 1,2,3,4,5,5-Hexachloro-
3734-48-3 | 4,7-Methanoindene, 4,5,6,7,8,8-hexachloro-delta(sup 1,5)-tetrahydro- (chlordene)
62111-47-1 | Heptachlorocyclopentene
Structural Class—Halogenated propanes
1070-78-6 | 1,1,1,3-Tetrachloropropane
16714-68-4 | 1,1,2,2,3-Pentachloropropane
Structural Class —Hexachlorobicyclo[2.2.1]hept-5-ene-2,3-dicarboxy compounds
115-27-5 | 4,7-Methanoiosobenzofuran-1,3-dione, 4,5,6,7,8,8-hexachloro-3a,4,7,7a-tetrahydro
115-28-6 | Chlorendic acid
Structural Class—Phosphoric acid, 2-chloroethyl esters
13674-87-8 | 2-Propanol, 1,3-dichloro-, phosphate (3:1)
13204-14-8 | 2,2-Bis(chloromethyl)trimethylene bis(bis(2-chloroethyl)phosphate)
Structural Class —Sulfonaphthyl-substituted 4,1-diazophenyl compounds
8003-69-8 | 2-Naphthalenesulfonic acid,6-((7-amino-1-hydroxy-3-sulfo-2-naphthalenyl)azo)-3-((4-((4-amino-6(or 7)-sulfo-1-naphthalenyl)azo)phenyl)azo)-4-hydroxy-, trisodium salt
1670-62-6 | Trisodium 6-((2,4-diaminophenyl)azo)-3-((4-((4-((7-((2,4- diaminophenyl)azo)-1-hydroxy-3-sulphonato-2-naphthyl)azo)phenyl)amino)-3-sulphonatophenyl)azo)-4-hydroxynaphthalene-2-sulphonate
Structural Class— Tetrachlorobenzenes
95-94-3 | 1,2,4,5-Tetrachlorobenzene
634-66-2 | 1,2,3,4-tetrachlorobenzene
Structural Class —Tris(aminoaryl)methanamimnium compounds
2152-64-9 | Benzenamine, -phenyl-4-((4-(phenylamino)phenyl)(4-(phenylimino)-2,5-cyclohexadien-1-ylidene)methyl)-, monohydrochloride
101-20-2 | Urea, N-(4-Chlorophenyl)-N'-(3,4-dichlorophenyl)-
719-32-4 | Terephthaloyl chloride, tetrachloro-
433-06-3 | 1,1,2,2-Tetrachloroethylsulfenyl chloride
1203-86-7 | 2,2-Dichloro-1-(2,4,5-trichlorophenyl)-ethanone
55954-19-3 | 1H-Azepine-1-carboxamide, N-(3-(((hexahydro-2-oxo-1H-azepin-1-yl)carbonyl)amino)methyl)- 3,5,5-trimethylcyclohexyl)hexahydro-2-oxo-
60825-27-6 | Acetic acid, ((3,5,6-trichloro-2-pyridinyl)oxy)-, ethyl ester
64667-33-0 | Hexanoic acid, 4,6,6,6-tetrachloro-3,3-dimethyl-, methyl ester
69806-40-2 | Propanoic acid, 2-(4-((3-chloro-5-(trifluoromethyl)-2-pyridinyl)oxy)phenoxy)-, methyl ester

Table 4.—Two Hundred Eight Non-HPV DEBITS Chemicals With Predicted BCFs of 3-13
CAS No. | Chemical name
Structual Class—(2-Thiazolylazo)benzenamines
19745-44-9 | Propionitrile, 3-[p-[(5-nitro-2-thiazolyl)azo]-N-phenethylanilino]-
68516-81-4 | Ethanol, 2-[ethyl[3-methyl-4-[(5-nitro-2-thiazolyl)azo]phenyl]amino]-
70693-63-9 | Benzenamine, N,N-diethyl-3-methyl-4-(2-thiazolylazo)-
Structual Class—[(2-Hydroxy-1-naphthalenyl)azo]benzenesulfonate salts
12688-94-7 | Manganese, (4-((5-chloro-4-methyl-2-sulfophenyl)azo)-3-hydroxy-2-naphthalenecarboxylato(2-))-
5070-41-8 | 2-Naphthalenecarboxylic acid, 4-((5-chloro-4-methyl-2-sulfophenyl)azo)-3-hydroxy-, strontium salt (1:1)
17852-99-2 | Calcium 4-((4-chloro-5-methyl-2-sulphonatophenyl)azo)-3-hydroxy-2-naphthoate
20514-68-1 | 2-Naphthalenecarboxylic acid, 4-((4-chloro-5-ethyl-2-sulfophenyl)azo)-3-hydroxy-, calcium salt (1:1)
67801-01-8 | Barium bis(5-chloro-4-ethyl-2-((2-hydroxy-1-naphthyl)azo)benzenesulphonate)
67828-72-2 | 2-Naphthalenecarboxylic acid, 4-((4-chloro-5-methyl-2-sulfophenyl)azo)-3-hydroxy-, strontium salt (1:1)
Structual Class—[(3,5-Dinitro-2-thienyl)azo]anilines
14932-34-9 | 2,2'-(4-((3,5-Dinitro-2-thienyl)azo)-4,1-phenyleneimino)bisethanol, diacetate (ester)
58979-46-7 | Acetamide, N-[5-(diethylamino)-2-[(3,5-dinitro-2-thienyl)azo]phenyl]-
Structual Class—[[3-[(Phenyl)azo]phenyl]azo]benzenes
4482-25-1 | 1,3-Benzenediamine, 4,4'-(4-methyl-1,3-phenylene)bis(azo)bis 6-methyl-
5421-66-9 | 1,3-Benzenediamine, 4,4'-((4-methyl-1,3-phenylene)bis(azo))bis(6-methyl-, dihydrochloride
67874-26-4 | Benzoic acid, 5-((4-((3-((3-((2,4-diaminophenyl)azo)-2-hydroxy-5-sulfophenyl)azo)-2,6-dihydroxyphenyl)azo)phenyl) azo)-2-hydroxy-, disodium salt
71799-74-1 | 2,7-Naphthalenedisulfonic acid, 4-((2,4-dihydroxy-5-((2-hydroxy-3,5-dinitrophenyl)azo)-3((4-nitrophenyl)azo)phenyl)azo)-5-hydroxy-
Structual Class—[[4-[(Phenyl)azo]phenyl]azo]benzenesulfonic acid salts
51418-90-7 | Benzenesulfonic acid, 3-((4-((4-(2-hydroxybutoxy)-3-methylphenyl)azo)-3-methoxyphenyl)azo)-, monosodium salt
61290-31-1 | Benzenesulfonic acid, 3-((4-((4-(2-hydroxybutoxy)phenyl)azo)-5-methoxy-2-methylphenyl)azo)-, monolithium salt
63405-85-6 | Benzenesulfonic acid, 3-[[3-methoxy-4-[(4-methoxyphenyl)azo]phenyl]azo]-, sodium
68400-34-0 | Benzenesulfonic acid, 4-[[4-[(4-hydroxyphenyl)azo]-5-methoxy-2-methylphenyl]azo-, monosodium salt]
68959-01-3 | Benzenesulfonic acid, 4-chloro-3-((4-((4-ethoxyphenyl)azo)phenyl)azo)-, sodium salt
Structual Class—[[4-[(Phenyl)azo]phenyl]azo] benzenesulfonic acids
30282-44-1 | Benzenesulfonic acid, p-[[2,4-dihyroxy-3-(xylylazo)phneyl]azo]-
Structual Class—[2-Methoxy-4-[(3-sulfophenyl)azo]phenyl]urea salts
7248-45-5 | Benzoic acid, 2-hydroxy-5-((4-((((2-methoxy-4-((3-sulfophenyl)azo)phenyl)amino) carbonyl)amino)phenyl)azo)-, disodium salt
10114-86-0 | 3,3'-(Carbonylbis(imino(3-methoxy-4,1-phenylene)azo))bis(benzenesulfonic acid), disodium salt
Structual Class—[2-Methoxy-4-[(3-sulfophenyl)azo]phenyl]ureas
8697-36-6 | Benzenesulfonic acid, 3,3'-(carbonylbis(imino(3-methoxy-4,1-phenylene)azo))bis-
Structual Class—1-[(Dinitrophenyl)azo]-2-naphthalenols
4998-82-7 | 1-[(2-Hydroxy-3,5-dinitrophenyl)azo]-2-hydroxynaphthalene
Structual Class— 1H-Indole-5-sulfonic acid, 2-phenyl-3-[[2-(phenylsulfonyl)phenyl]azo]-1H-Indole-5- sulfonic acid salts
90677-63-7 | 1H-Indole-5-sulfonic acid, 2-phenyl-3-[[2-(phenylsulfonyl)phenyl]azo]-, monosodium salt
Structual Class—1H-Indole-5-sulfonic acid, 2-phenyl-3-[[2-(phenylsulfonyl)phenyl]azo]-1H-Indole-5- sulfonic acids
93972-88-4 | 1H-Indole-5-sulfonic acid, 2-phenyl-3-[[2-(phenylsulfonyl)phenyl]azo]-
Structual Class—2-(Phenylazo)-3-oxo-N-phenylbutanamides
2512-29-0 | Butanamide, 2-[(4-methyl-2-nitrophenyl)azo]-3-oxo-N-phenyl-
6486-21-1 | Acetoacetanilide, 2-[(4-methoxy-2-nitrophenyl)azo]-
6486-23-3 | Butanamide, 2[(4-chloro-2-nitrophenyl)azo]-N-(2-chlorophenyl)-3-oxo-
12225-18-2 | Butanamide, N-(4-chloro-2,5-dimethoxyphenyl)-2-((2,5-dimethoxy-4-((phenylamino)sulfonyl)phenyl)azo)-3-oxo-
13515-40-7 | o-Acetoacetanisidide, 2-[(4-chloro-2-nitrophenyl)azo]-
32432-45-4 | o-Acetoacetotoluidide, 4'-chloro-2-[(4-chloro-2-nitrophenyl)azo]-
52320-66-8 | 2-((4-Chloro-2-nitrophenyl)azo)-N-(4-ethoxyphenyl)-3-oxobutyramide
Structual Class—2,4-bis[(Arylazo)arylamino]-6-amino-1,3,5-triazines
104-03-8 | 2-Naphthalenesulfonic acid, 7,7'-((6-(4-morpholinyl)-1,3,5-triazine-2,4-diyl)diimino)bis(4-hydroxy-3-((4-methoxy-2-sulfophenyl)azo)-, tetrasodium salt
50925-42-3 | 1,5-Naphthalenedisulfonic acid, 3,3'-((6-((2-hydroxyethyl)amino)-1,3,5-triazine-2,4-diyl)bis(imino(2-methyl-4,1-phenylene)azo))bis-, tetrasodium salt
52953-36-3 | Cuprate(4-),(4-hydroxy-7-((4-((2-hydroxyethyl)amino)-6-((5-hydroxy-6-((2-hydroxy-5-sulfophenyl)azo)-7-sulfo-2-naphthalenyl)amino)-1,3,5-triazin-2-yl)amino)-3-((4-methoxy-2-sulfophenyl)azo)-2-naphthalenesulfonato(6-))-, tetrasodium
Structual Class—2-[[6-[(1,3,5-Triazin-2-yl)amino]-1-hydroxy-3-sulfo-2-naphthalenyl]azo]-1,5-naphthalenedisulfonic acid salts
70616-90-9 | 1,5-Naphthalenedisulfonic acid, 2-((6-((4,6-dichloro-1,3,5-triazin-2-yl)methylamino)-1-hydroxy-3-sulfo-2-naphthalenyl)azo)-, trisodium salt
89923-44-4 | Trisodium 2-((6-((4-(ethylphenylamino-6-fluoro-1,3,5-triazin-2-yl)amino)-1-hydroxy-3-sulphonato-2-naphthyl)azo)naphthalene-1,5-disulphonate
Structual Class—2-Azo-N-(2,3-dihydro-2-oxo-1H-benzimidazol-5-yl)- 3-oxobutanamides
12236-62-3 | Butanamide, 2-((4-chloro-2-nitrophenyl)azo)-N-(2,3-dihydro-2-oxo-1H-benzimidazol-5-yl)-3-oxo-
68134-22-5 | Butanamide, -(2,3-dihydro-2-oxo-1H-benzimidazol-5-yl)-3-oxo-2-((2-(trifluoromethyl)phenyl)azo)-
Structual Class—2-Halo-4-(phenylazo)-6- [(((sulfonaphthyl)azo)sulfophenyl)amino]-1,3,5-triazines
68110-31-6 | 2,7-Naphthalenedisulfonic acid, 4-amino-3,6-bis((4-((4-chloro-6-((3-sulfophenyl)amino)-1,3,5-triazin-2-yl)amino)-2-sulfophenyl)azo)-5-hydroxy-, hexasodium salt
68133-24-4 | 2,7-Naphthalenedisulfonic acid, 4-amino-3,6-bis[[5-[[4-chloro-6-[(3-sulfophenyl)amino]-1,3,5-triazin-2-yl] amino]-2-sulfophenyl]azo]-5-hydroxy-, hexasodium salt
70528-89-1 | 2,7-Naphthalenedisulfonic acid, 4-amino-6-((5-((4-((3-chlorophenyl)amino)-6-fluoro-1,3,5-triazin-2-yl)amino)-2-sulfophenyl)azo)-5-hydroxy-3-((4-sulfophenyl)azo)-, tetrasodium salt
Structual Class—3-[[4-[(6-Nitro-2-benzothiazolyl)azo]phenyl]amino] propanenitriles
13486-43-6 | Ethanol, 2-ethyl-4-(6-methoxy-2-benzothiazolyl)azo phenyl amino-
16586-42-8 | Propanenitrile, 3-ethyl-3-methyl-4-(6-nitro-2-benzothiazolyl)azo phenyl amino-
16588-67-3 | Propionitrile, 3-N-ethyl-4-6-(methylsulfonyl)-2-benzothiazolyl azo-,m-toluidino-
25510-81-0 | Propanenitrile,3-(ethyl(4-((6-nitro-2-benzothiazolyl)azo)phenyl)amino)-
41362-82-7 | Propanenitrile, 3-4-(5,6-dichloro-2-benzothiazolyl)azo phenyl methylamino-
Structual Class—3-[[4-[(Phenyl)azo]-1-naphthalenyl]azo]benzenesulfonic acids, sodium salts
67875-21-2 | Benzenesulfonic acid, 3-[[4-[(2-hydroxy-5-methylphenyl)azo]-1-naphthalenyl]azo]-, monosodium salt
68959-00-2 | Benzenesulfonic acid, 3-((4-((2-ethoxy-5-methylphenyl)azo)-1-naphthalenyl)azo)-, sodium salt
Structual Class—3-[[Phenyl]azo]-N-(phenyl)benzenecarboxamides
12236-64-5 | 2-Naphthalenecarboxamide, -(4-(acetylamino)phenyl)-4-((5-(aminocarbonyl)- 2-chlorophenyl)azo)-3-hydroxy-
36968-27-1 | 2-Naphthalenecarboxamide, 4-[[4-(aminocarbonyl) pohenyl]azo]-3-hydroxy-N-(2-methoxyphenyl)-
19904-51-4 | 2-Naphthalenecarboxamide, 3-hydroxy-4-((2-methoxy-5-((phenylamino)carbonyl)phenyl)azo)-
Structual Class—4,4'-bis(Arylazo)stilbene-2,2'-disulfonic acid salts
2870-32-8 | 2,2'-(1,2-Ethenediyl)bis(5-((4-ethoxyphenyl)azo) benzenesulfonic acid), disodium salt
53523-90-3 | Benzoic acid, 3,3'-[1,2-ethenediylbis[(3-sulfo-4,1-phenylene)azo]]bis [6-hydroxy-5-methyl-, tetralithium salt
75701-34-7 | 2-Naphthalenesulfonic acid, 3,3'-[1,2-ethenediylbis[(3-sulfo-4,1-phenylene)azo]]bis[6-amino- 4-hydroxy-, cmpd with 2,2',2''-nitrilotris (ethanol) (1:4)
Structual Class—4,4'-bis(Arylazo)stilbene-2,2'-disulfonic acids
91-34-9 | Benzenesulfonic acid, 2,2'-(1,2-ethenediyl)bis 5-(4-hydroxyphenyl)azo-
Structual Class—4,4'-bis(Triazinylamino)stilbene-2,2'-disulfonic acid salts
37138-26-4 | Benzenesulfonic acid,2,2'-(1,2-ethenediyl)bis[5-[[4-chloro-6-[(4-sulfophenyl)amino]- 1,3,5-triazin-2-yl]amino]-, tetrasodium salt
41098-56-0 | 1,4-Benzenedisulfonic acid,2,2'-(1,2-ethenediylbis((3-sulfo-4,1-phenylene)imino(6-(diethylamino)-1,3,5-triazine-4,2-diyl)imino))bis-, hexasodium salt
17506-54-5 | Benzenesulfonic acid, 2,2'-(1,2-ethenediyl)bis(5-((4-(bis(2-hydroxypropyl)amino)-6-((4-sulfophenyl)amino)-1,3,5-triazin-2-yl)amino)-, dipotassium disodium salt
68003-30-5 | Benzenesulfonic acid,2,2'-(1,2-ethenediyl)bis(5-((4-(2-hydroxypropoxy)-6-(phenylamino)-1,3,5-triazin-2-yl)amino)-, disodium salt
68003-31-6 | Benzenesulfonic acid, 2,2'-(1,2-ethenediyl)bis[5-[[4-[2-(2-hydroxyethoxy)ethoxy]-6-[phenylamino]-1,3,5-triazin-2-yl]amino]-, disodium salt
68025-20-7 | Benzenesulfonic acid,5-((4-(2-(2-hydroxyethoxy)ethoxy)- 6-(phenylamino)-1,3,5-triazin-2-yl)amino)-2-(2-(4-((4-(2-hydroxypropoxy)-6-(phenylamino)-1,3,5-triazin-2-yl)amino)-2-sulfophenyl)ethenyl)-, disodium salt
68155-68-0 | Benzenesulfonic acid,2,2'-(1,2-ethenediyl)bis(5-((4-chloro-6-((4-sulfophenyl)amino)-1,3,5-triazin-2-yl)amino)-, dipotassium disodium salt
85187-74-2 | Benzenesulfonic acid, 2,2'-(1,2-ethenediyl)bis(5-((4-(methylamino)-6- (phenylamino)-1,3,5-triazin-2-yl)amino)-, sodium salt
Structual Class—4-Amino-4'-nitroazobenzenes
101-52-0 | 2-Methoxy-4-[(4-nitrophenyl)azo]benzenamine
1533-76-2 | Propanamide, -(5-(bis(2-(acetyloxy)ethyl)amino)-2-((4-nitrophenyl)azo)phenyl)-
1533-77-3 | Acetanilide, 5'-(bis(2-hydroxyethyl)amino)-2'-((2-methoxy-4-nitrophenyl)azo)-, diacetate (ester)
1533-78-4 | Acetamide, -(5-(bis(2-(acetyloxy)ethyl)amino)-2-((2-chloro-4-nitrophenyl)azo)phenyl)-
2872-52-8 | 2-(Ethyl(4-((4-nitrophenyl)azo)phenyl)amino)ethanol
3025-41-0 | Ethanol, 2,2'-4-(2-chloro-4-nitrophenyl)azo phenyl imino bis-
3179-89-3 | Ethanol, 2,2'-3-methyl-4-(4-nitrophenyl)azo phenyl imino bis-
3180-81-2 | Ethanol, 2-,4-(2-chloro-4-nitrophenyl)azo phenyl ethylamino-
3618-73-3 | Acetamide, -(5-(bis(2-(acetyloxy)ethyl)amino)-2-((2-chloro-4,6-dinitrophenyl)azo)-4-methoxyphenyl)-
4058-30-4 | Propanenitrile,3,3'-((4-((2-chloro-4-nitrophenyl)azo)phenyl)imino)bis-
5261-31-4 | Propanenitrile, 3-((2-(acetyloxy)ethyl)(4-((2,6-dichloro-4-nitrophenyl)azo)phenyl)amino)-
6021-61-0 | Propionitrile, 3-[p-[(2-chloro-4-nitrophenyl)azo]-N-(2-hydroxyethyl)anilino]-,
6657-32-5 | Propionitrile, 3-[N-(2-hydroxyethyl)-p-[(p-nitrophenyl)azo]anilino]-
13301-61-6 | Propionitrile, 3-[p-[(2,6-dichloro-4-nitrophenyl)azo]-N-ethylanilino]-
16586-43-9 | Propanenitrile, 3-[[4-[(2-chloro-4-nitrophenyl)azo]-3-methylphenyl]ethylamino]-
5474-89-3 | Benzonitrile, 2-[[p-[(2-cyanoethyl)ethylamino]phenyl]azo]-5-nitro-
17464-91-4 | Ethanol,2,2'-((4-((2-bromo-6-chloro-4-nitrophenyl)azo)-3-chlorophenyl)imino)bis-
17741-62-7 | Thiomorpholine, 4-p-(2,6-dichloro-4-nitrophenyl)azo phenyl-,1,1-dioxide
22578-86-5 | Acetamide, N-(2-((2-bromo-4,6-dinitrophenyl)azo)-5-((2-cyanoethyl)ethylamino)-4-methoxyphenyl)-
23355-64-8 | Ethanol, 2,2'-[[3-chloro-4-[(2,6-dichloro-4-nitrophenyl)azo]phenyl]imino]di-
24170-60-3 | Acetamide, N-2-(2-cyano-4,6-dinitrophenyl)azo-5-(diethylamino)phenyl-
29426-52-6 | Ethanol, 2,2'-3-methyl-4-2-(methylsulfonyl)-4-nitrophenyl azo phenyl imino bis-, diacetate ester
29649-47-6 | Acetamide,-(2-((2-chloro-4-nitrophenyl)azo)-5-((2-(2,5-dioxo-1-pyrrolidinyl)ethyl)ethylamino)phenyl)-
10177-47-6 | Benzamide, N-5-bis 2-(acetyloxy)ethyl amino-2-(4-nitrophenyl)azo phenyl-
30124-94-8 | Benzonitrile, 2-4-bis 2-(acetyloxy)ethyl amino phenyl azo-5-nitro-
31464-38-7 | Propanenitrile, 3-methyl-4-(4-nitrophenyl)azo phenyl amino-
31482-56-1 | Propanenitrile, 3-ethyl-4-(4-nitrophenyl)azo phenyl amino-
40690-89-9 | Propanenitrile, 3-[[2-(benzoyloxy)ethyl][4-[(4-nitrophenyl)azo]phenyl]amino]-
40880-51-1 | Propanenitrile, 3-4-(2-chloro-4-nitrophenyl)azo phenyl ethylamino-
41642-51-7 | Acetamide, -2-(2,6-dicyano-4-nitrophenyl)azo-5-(diethylamino)phenyl-
43047-20-7 | Ethanol, 2,2-chloro-4-(4-nitrophenyl)azo phenyl amino-
52697-38-8 | Acetamide, -[2-[(2-bromo-4,6-dinitrophenyl)azo]-5-(diethylamino)phenyl]-
53950-33-7 | Acetamide, -(2-((2-bromo-4,6-dinitrophenyl)azo)-5-((2-cyanoethyl)amino)-4-methoxyphenyl)-
56548-64-2 | Acetamide, -[2-[(2-bromo-4,6-dinitrophenyl)azo]-5-(diethylamino)-4-methoxyphenyl)-
61355-92-8 | .beta.-Alanine, - 3-(acetylamino)-4- (4-nitrophenyl)azo phenyl -N-(3-methoxy-3-oxopropyl)-, methyl ester
22487049 | Ethanol, 2,2'-4-(2,6-dichloro-4-nitrophenyl) azo phenyl imino bis-
65916-12-3 | Acetamide, -(2-((2,6-dicyano-4-nitrophenyl)azo)-5-((2-(2-ethoxyethoxy)ethyl)ethylamino)phenyl)-
66214-54-8 | Ethanol, 2,2'-4-(4-nitrophenyl)azo phenyl imino bis-, diacetate (ester)
66882-16-4 | Benzonitrile, 2-[[4-[bis[2-(acetyloxy)ethyl]amino]-2-methylphenyl]azo]-5-nitro-
67674-22-0 | Acetamide, -2-(2-bromo-4,6-dinitrophenyl)azo-5-(ethylamino)-4-methoxyphenyl-
67846-62-2 | Propanamide, -(2-((2-chloro-4,6-dinitrophenyl)azo)-5-(ethylamino)-4-(2-methoxyethoxy)phenyl)-
67874-57-1 | Propanenitrile, 3-2-chloro-4-(2,6-dichloro-4-nitrophenyl)azo phenyl amino-
67923-43-7 | Propanenitrile, 3,3'- 4- (2,6-dichloro-4-nitrophenyl) azo phenyl imino bis-
68391-42-4 | Propanenitrile, 3-[[2-(acetyloxy)ethyl][4-[(4-nitrophenyl)azo]phenyl]amino]-
68391-47-9 | Acetamide, N-5-bis-2-(acetyloxy)ethyl amino-2-(2,4-dinitrophenyl)azo phenyl-
68957-67-5 | Acetamide, N-(2-((2-chloro-4,6-dinitrophenyl)azo)-5-(ethylamino)-4-(2-methoxyethoxy)phenyl)-
70210-10-5 | Propanenitrile, 3-((2-(2-cyanoethoxy)ethyl)(4-((4-nitrophenyl)azo)phenyl)amino)-
71617-28-2 | Acetamide,N-(4-chloro-2-((2-chloro-4-nitrophenyl)azo)-5-((2-hydroxypropyl)amino)phenyl)-
72968-78-6 | 2,4,10-Trioxa-7-azaundecan-11-oic acid, 7-(4-((2-cyano-4-nitrophenyl)azo)-3-methylphenyl)-3-oxo-, methyl ester
75150-11-7 | Acetamide, -(2-((2-chloro-4-nitrophenyl)azo)-5-((2-cyanoethyl)-2-propenylamino) phenyl)-
Structual Class—5-(Phenylazo)-8-(phenylamino)-1- naphthalenesulfonic acid salts
67875-18-7 | 1-Naphthalenesulfonic acid, 5-((2-chloro-4-nitrophenyl)azo)-8-phenylamino-, sodium salt
67875-11-0 | 1-Naphthalenesulfonic acid, 5-[(3-chlorophenyl)azo]-8-(phenylamino)-, monosodium
Structual Class—5,8-bis(phenylazo)-2-sulfonaphthalenes
67875-14-3 | 2-Naphthalenesulfonic acid, 5-((4-(bis(2-hydroxyethyl)amino)phenyl)azo)-8-((2-methylphenyl)azo)-, monosodium salt
68039-07-6 | 2-Naphthalenesulfonic acid, 5(or 8)-((4-hydroxy-2-methylphenyl)azo)-8(or 5)-(phenylazo)-, monosodium salt
68039-08-7 | 2-Naphthalenesulfonic acid, 5(or 8)-((4-ethoxy-2-methylphenyl)azo)-8(or 5)-(phenylazo)-, sodium salt
Structual Class—5,8-bis[(naphthyl or phenyl)azo]-2-sulfonaphthalenes
4399-55-7 | 1,5-Naphthalenedisulfonic acid, 3-((4-((4-((6-amino-1-hydroxy-3-sulfo-2-naphthalenyl)azo)-6-sulfo-1-naphthalenyl)azo)-1-naphthalenyl)azo)-, tetrasodium salt
68227-72-5 | 1-Naphthalenesulfonic acid, 8-(phenylamino)-5-((4-(phenylazo)-6-sulfo-1-naphthalenyl)azo)-, disodium salt
70210-31-0 | 2-Naphthalenesulfonic acid,8-((4-((4-amino-3-sulfophenyl) azo)-6-sulfo-1-naphthalenyl)azo)-5-((6-(benzoylamino)-1-hydroxy-3-sulfo-2-naphthalenyl)azo)-, tetrasodium salt
Structual Class—5-[[4-[(3-Sulfophenyl)azo]-1-naphthalenyl]azo] naphthalene sulfonic acid salts
530-08-7 | 1-Naphthalenesulfonic acid, 8-(phenylamino)-5-((4-((3-sulfophenyl)azo)-1-naphthalenyl)azo)-, disodium salt
1593-37-1 | 2-Naphthalenesulfonic acid, 6-hydroxy-5-((4-((4-(phenylamino)-3-sulfophenyl)azo)-1- naphthalenyl)azo)-,disodium salt
Structual Class—5-Azo-2,6-dialkylamino-4-methyl-3-pyridinecarbonitriles
63833-78-3 | 3-Pyridinecarbonitrile, 5- (2-cyano-4-nitrophenyl)azo -6- (2-hydroxyethyl)amino
72968-71-9 | 2-Thiophenecarboxylic acid, 4-cyano-5-((5-cyano-2,6-bis((3-methoxypropyl)amino)-4-methyl-3-pyridinyl)azo)-3-methyl-, methyl ester
Structual Class—Azobis(4,1-phenyleneazo)bis(naphthalenesulfonates)
52469-75-7 | Trisodium 5-amino-3-((4-((4-((7-amino-1-hydroxy-3-sulphonato-2-naphthyl)azo)phenyl)azo)phenyl)azo)-4-hydroxynaphthalene-2,7-disulphonate
72017-89-1 | 2,7-Naphthalenedisulfonic acid, 3,3'-(azobis(4,1-phenyleneazo))bis(5-amino-4-hydroxy-, tetrasodium salt
72017-91-5 | 2,7-Naphthalenedisulfonic acid, 5-amino-3-((4-((4-((8-amino-1-hydroxy-3,6-disulfo-2-naphthalenyl)azo)-3-methoxyphenyl)azo)phenyl)azo)-4-hydroxy-, tetrasodium salt
75173-68-1 | Copper, (mu-((3,3'-(azoxybis((2-hydroxy-4,1-phenylene)azo))bis(4-hydroxy-2,7- naphthalenesulfonato))(8-)))di-, tetrasodium
93941-06-1 | 2,7-Naphthalenedisulfonic acid, 3,3'-(azoxybis((2-methoxy-4,1-phenylene)azo))bis(4,5-dihydroxy-
99869-36-0 | 2,7-Naphthalenedisulfonic acid, 3,3'-(azoxybis((2-methoxy-4,1-phenylene)azo))bis(4,5-dihydroxy-, lithium salt
99869-37-1 | 2,7-Naphthalenedisulfonic acid, 3,3'-(azoxybis((2-methoxy-4,1-phenylene)azo))bis(4,5-dihydroxy-, sodium salt
124605-82-9 | 2,7-Naphthalenedisulfonic acid, 5-amino-3-[[4-[[4-[(8-amino-1-hydroxy-3,6-disulfo-2-naphthalenyl)azo]-2-methylphenyl]azo]-4-hydroxy-, lithium sodium salt
Structual Class—Biphenylbis(azonaphthalenesulfonates)
4198-19-0 | 2,7-Naphthalenedisulfonic acid, 3,3'-((3,3'-dimethoxy(1,1'-biphenyl)-4,4'-diyl)bis(azo))bis(4,5-dihydroxy-, tetrasodium salt
3770-03-3 | Cuprate(4-), (mu-((4,4'-((3,3'-di(hydroxy-kappaO)(1,1'-biphenyl)-4,4'-diyl)bis(azo-kappaN1))bis(3-(hydroxy-kappaO)-2,7-naphthalenedisulfonato))(8-)))di-, tetrasodium
28407-37-6 | 2,7-Naphthalenedisulfonic acid, 3,3'((3,3'-dihydroxy(1,1'-biphenyl)-4,4'-diyl)bis(azo)bis(5-amino-4-hydroxy-, sodium salt, copper complex
66418-17-5 | Cuprate(3-), [.mu.-[4-[[4'-[(6-amino-1-hydroxy-3-sulfo-2-naphthalenyl)azo]-3,3'- dihydroxy(1,1'-biphenyl)-4-yl)azo]-3-hydroxy-2,7-naphthalene disulfonato(7-)]]di-, trisodium
67952-80-1 | Cuprate(4-), (mu-(5-(acetylamino)-3-((4'-((8-amino-1-hydroxy-3,6-disulfo-2-naphthalenyl)azo)-3,3'-dihydroxy(1,1'-biphenyl)-4-yl)azo)-4-hydroxy-2,7-naphthalenedisulfonato(8-)))di-, tetrasodium
68133-82-4 | Chromate(2-), bis(2-((6-amino-1-hydroxy-3-sulfo-2-naphthalenyl)azo)benzoato(3-))-, dihydrogen
68259-04-1 | Acetic acid, 2,2'-((4,4'-bis((6-((1-hydroxy-4-(((2-methoxyethoxy)carbaryl)amino)phenyl)amino)-3-sulfo-2-naphthalenyl)azo(1,1'-biphenyl)-3,3'-diyl)bis(oxy))bis-, disodium salt
71550-22-6 | 2,7-Naphthalenedisulfonic acid, 3,3'-((3,3'-dimethoxy(1,1'-biphenyl)-4,4'-diyl)bis(azo))bis(5-amino-4-hydroxy-, tetralithium salt
71873-63-7 | Cuprate(4-), [.mu.-[7-[[3,3'-dihydroxy-4'-[(4-hydroxy-2-sulfobenzo[a]phenazin-3-yl)azo-kappaN1)(1,1'-biphenyl)-4-yl)azo-kappaN1)-8-(hydrozy-kappa0)-1,3,6-naphthalenetrisulfonato(8-)))di-, tetrasodium salt
Structual Class—Bis[1',2'-dihydro-6'-hydroxy-4'-methyl-2'-oxo-1,3'- bipyridiniums]
71032-99-0 | 1,3'-Bipyridinium, 5',5'''-(1,2-ethanediylbis(4,1-phenyleneazo))bis(1',2'-dihydro-6'-hydroxy-4'-methyl-2'-oxo-, salt with 2-hydroxypropanoic acid (1:2)
75214-63-0 | 1,3'-Bipyridinium, 5'-[[4-[[4-[(1',2'-dihydro-6'-hydroxy-3,4'-dimethyl-2'-oxo[1,3'-bipyridinium)-5'-yl)azo)benzoyl)amino)phenyl)azo)-1',3'-dihydro-6'-hydroxy-3,4'-dimethyl-2'-oxo-, salt with 2-hydroxypropanoic acid (1:2)
Structual Class—Bis[2-(phenylazo)-3-oxo-N-phenylbutanamides]
6505-28-8 | Butanamide, 2,2'-((3,3'-dimethoxy(1,1'-biphenyl)-4,4'-diyl)bis(azo))bis(3-oxo-N-phenyl-
7147-42-4 | Butanamide, 2,2'-((3,3'-dimethoxy(1,1'-biphenyl)-4,4'-diyl)bis(azo))bis(N-(2-methylphenyl)-3-oxo-
68155-71-5 | Benzamide, 4-((1-(((2-methoxyphenyl)amino)carbonyl)-2-oxopropyl)azo)-N-(4-((1-(((2-methoxyphenyl)amino)carbonyl)-2-oxopropyl)azo)phenyl)-
68516-73-4 | 1,4-Benzenedicarboxylic acid, 2,2'-[1,4-phenylenebis[imino(1-acetyl-2-oxo-2,1-ethanediyl)azo))bis-, tetramethyl ester
77804-81-0 | Butanamide, 2,2'-(1,2-ethanediylbis(oxy-2,1-phenyleneazo)) bis(N- (2,3-dihydro-2-oxo-1H-benzimidazol-5-yl)-3-oxo-
Structual Class—Diaminoanthraquinones
4403-90-1 | m-Toluenesulfonic acid, 6,6'-(1,4-anthraquinonylenediimino) di-, disodium salt
67827-60-5 | 2-Anthracenesulfonic acid, 1-amino-4-((3-((benzoylamino)methyl)-2,4,6-trimethylphenyl)amino)-9,10-dihydro-9,10-dioxo-, monosodium salt
67969-88-4 | 2-Anthracenesulfonic acid, 1-amino-4-((4-(((4-methylphenyl)sulfonyl]oxy]phenyl)amino)-9,10-dihydro-9,10-dioxo-, monosodium salt
67970-27-8 | Benzenesulfonic acid, 2,2'-((9,10-dihydro-9,10-dioxo-1,4-anthracenediyl)diimino) bis(5-methyl-, diammonium salt
72391-24-3 | Benzenesulfonic acid, [[(chloroacetyl)amino]methyl][4-[[4-(cyclohexylamino)-9,10-dioxo-1-anthracenyl)amino)phenoxy)methyl-, monosodium salt
Structual Class—N-(2,3-dihydro-2-oxo-1H-benzimidazol-5-yl)-4- [[4-[(methylamino)sulfonyl]phenyl]azo]-3-hydroxy-2- naphthalenecarboxamides
3771-33-9 | 2-Naphthalenecarboxamide, -(2,3-dihydro-2-oxo-1H-benzimidazol-5-yl)-4-((2,5-dimethoxy-4-((methylamino)sulfonyl)phenyl)azo)-3-hydroxy-
Structual Class— -(2,3-dihydro-2-oxo-1H-benzimidazol-5-yl)-4- [[4-[(methylamino)sulfonyl]phenyl]azo]-3-hydroxy-2- naphthalenecarboxamides
18269-75-6 | 2-Naphthalenecarboxamide,-(2,3-dihydro-2-oxo-1H-benzimidazol-5-yl)-3-hydroxy-4-((2-methoxy-5-methyl-4-((methylamino)sulfonyl)phenyl)azo)-
61951-98-2 | N-(2,3-Dihydro-2-oxo-1H-benzimidazol-5-yl)-3-hydroxy-4-((5-methoxy-2-methyl-4-((methylamino)sulphonyl)phenyl)azo)naphthalene-2-carboxamide
Structual Class—N-(arylazo)phenyl (disulfonaphthyl)azobenzamides
70900-28-6 | 2,7-Naphthalenedisulfonic acid, 4-amino-3-((4-(((4-((4-amino-2-hydroxyphenyl)azo) phenyl)amino)carbonyl)phenyl)azo)-5-hydroxy-6-((4-sulfophenyl)azo)-, trisodium salt
72245-55-7 | 2,7-Naphthalenedisulfonic acid, 4-amino-3-((4-(((4-((7-amino-1-hydroxy-3-sulfo-2-naphthalenyl)azo)phenyl)amino)carbonyl)phenyl)azo)-5-hydroxy-6-(phenylazo)-, sodium salt
72245-57-9 | 2,7-Naphthalenedisulfonic acid, 4-amino-3-((4-(((4-((2-amino-4-hydroxyphenyl)azo)phenyl)amino)carbonyl)phenyl)azo)-5-hydroxy-6-(phenylazo)-, sodium salt
Structual Class—N,N'-bis[(arylazo)sulfonaphthyl]urea salts
3441-14-3 | 2-Naphthalenesulfonic acid, 3-((4-(acetylamino)phenyl)azo)-4-hydroxy-7-((((5-hydroxy-6-(phenylazo)-7-sulfo-2-naphthalenyl)amino)carbonyl)amino)-, disodium salt
3626-36-6 | 2-Naphthalenesulfonic acid, 7,7'-(carbonyldiimino)bis(4-hydroxy-3-(phenylazo)-, disodium salt
79255-95-1 | 2-Naphthalenesulfonic acid, 7,7'-(carbonyldiimino)bis(4-hydroxy-3-((2-methyl-4-sulfophenyl)azo)-, sodium salt, compd. with 2,2',2''-nitrilotris(ethanol)
Structual Class—N-[2-[(2,6-dicyano-4-methylphenyl)azo]-5-(dialkylamino) phenyl]methanesulfonamides
68385-96-6 | Methanesulfonamide, -[2-[(2,6-dicyano-4-methylphenyl)azo]-5-(diethylamino)phenyl]-
72968-82-2 | Methanesulfonamide, N-2-(2,6-dicyano-4-methylphenyl)azo-5-(dipropylamino)phenyl
Structual Class—N-[5-(amino)-2-[[5-(ethylthio)-1,3,4-thiadiazol-2-yl]azo]phenyl]acetamides
63134-15-6 | Acetamide, -5-(dipropylamino)-2-5-(ethylthio)-1,3,4-thiadiazol-2-ylazo phenyl-
67338-62-9 | Acetamide, -(5-(ethyl(phenylmethyl)amino)-2-((5-(ethylthio)-1,3,4-thiadiazol-2-yl)azo)phenyl)-
Structual Class—Sulfonaphthyl-substituted 4,1-diazophenyl compounds
20025-74-5 | 1,3,5-Naphthalenetrisulfonic acid, 7-((4-((4-((2,5,6-trichloro-4-pyrimidinyl)amino)phenyl)azo)phenyl)azo)-, trisodium salt
68460-07-1 | 2,7-Naphthalenedisulfonic acid, 4-amino-3-[[4-[(2-amino-4-hydroxyphenyl)azo]phenyl]azo]-5-hydroxy- 6-(phenylazo)-, disodium salt
124649-82-7 | 2-Naphthalenesulfonic acid, 4-hydroxy-3-[[2-methoxy-5-methyl-4-[(4-sulfophenyl)azo]phenyl]azo]-7-(phenylamino)-, cmpd. with [nitrilotris(2,1-ethanediyloxy)]tris[propanol] (1:2)
Structual Class—Sulfonaphthyl-substituted diphenylamine-4,4'-diazo-2-sulfonic acid salts
67969-92-0 | 2-Naphthalenesulfonic acid, 6-amino-3-[[4-[[4-[(7-amino-1-hydroxy-3-sulfo-2-naphthalenenyl]azo]phenyl]amino]-3-sulfophenyl]azo]-4-hydroxy-, trisodium salt
Structual Class—Sulfonaphthyl-substituted diphenylamine-4,4'-diazo-2-sulfonic acids
72066-88-7 | 2,7-Naphthalenedisulfonic acid,4-amino-3-((4-((4-((2-amino-4-hydroxyphenyl)azo) phenyl)amino)-3- sulfophenyl)azo)-5-hydroxy-6-(phenylazo)-
Structual Class—Sulfonaphthyl-substituted N,N'-bis(azophenyl) urea salts
3214-47-9 | 1,5-Naphthalenedisulfonic acid,3,3'-(carbonylbis(imino(2-methyl-4,1-phenylene)azo))bis-, tetrasodium salt
28706-21-0 | 1,3-Naphthalenedisulfonic acid, 7,7'-(iminobis(carbonyl(2-methyl-4,1-phenylene)azo))bis-, tetrasodium salt
28706-22-1 | 1,5-Naphthalenedisulfonic acid, 3,3'-(carbonylbis(imino(3-methoxy-4,1-phenylene)azo))bis-, tetrasodium salt
67969-87-3 | 1,3-Naphthalenedisulfonic acid, 7-((4-((((2-methoxy-4-((3-sulfophenyl)azo)phenyl)amino)carbonyl)amino)-2-methylphenyl)azo)-, trisodium salt
71873-47-7 | Benzoic acid,3-((1-hydroxy-6-((((4-((8-hydroxy- 3,6- disulfo-1-naphthalenyl)azo)-2-methoxy-5-methylphenyl)amino) carbonyl) amino)-3-sulfo-2-naphthalenyl)azo)-4-methoxy-, tetrasodium salt
Structual Class—Tris(aminoaryl)methanamimnium compounds
2390-59-2 | Ethanaminium, -(4-(bis(4-(diethylamino)phenyl)methylene)-2,5-cyclohexadien-1-ylidene)-N-ethyl-, chloride
2390-60-5 | Ethanaminium, -(4-((4-(diethylamino)phenyl)(4-(ethylamino)-1-naphthalenyl)methylene)-2,5-cyclohexadien-1-ylidene)-N-ethyl-, chloride
2580-56-5 | 2-Methanaminium,N-(4-((4-(dimethylamino)phenyl)(4- (phenylamino)-1-naphthalenyl)methylene)-2,5-cyclohexadien-1-ylidene)-N-methyl-, chloride
1064-48-8 | 2,7-Naphthalenedisulfonic acid, 4-amino-5-hydroxy-3-((4-nitrophenyl)azo)-6-(phenylazo)-, disodium salt
1580-44-1 | 2-Naphthalenesulfonic acid, 7-amino-4-hydroxy-3-((5-hydroxy-6-(phenylazo)-7-sulfo-2-naphthalenyl)azo)-, disodium salt
6527-70-4 | 2,9-Triphenodioxazinedisulfonic acid, 6,13-dichloro-3,10-bis(phenylamino)-, disodium salt
1789-01-9 | Cuprate(2-), (mu-((7,7'-iminobis(3-((5-(aminosulfonyl)-2-(hydroxy- kappaO)phenyl)azo-kappaN1)-4-(hydroxy-kappaO)-2- naphthalenesulfonato))(6-)))di-, disodium
12239-34-8 | Acetamide, -(5-(bis(2-(acetyloxy)ethyl)amino)-2-((2-bromo-4,6-dinitrophenyl)azo)-4-ethoxyphenyl)-
4232-06-2 | Benzenemethanamine, N-ethyl-N- 4-(1H-1,2,4-triazol-3-ylazo)phenyl -
41680-76-6 | 1,4-Benzenedicarboxylic acid, 2,5-bis(4-chlorophenyl)amino-
18386-01-7 | .beta.-Alanine, N-ethyl-N-[4-[(5-nitro-2,1-benzisothiazol-3-yl)azo]phenyl]-, methyl ester
58104-55-5 | 2-Naphthalenesulfonamide, 6-hydroxy-N-(2-hydroxyethyl)-N-methyl-5-((4-(phenylazo)phenyl)azo)-
64181-81-3 | 7-((4-Chloro-6-((3-sulfophenyl)amino)-1,3,5-triazin-2-yl)amino)-4-hydroxy-3-((4-methoxy-2-sulfophenyl)azo)-2-naphthalenesulfonic acid, trisodium salt
67800-97-9 | Chromate(1-), bis(3-(4-((5-chloro-2-hydroxyphenyl)azo)-4,5-dihydro-3-methyl-5-oxo- 1H-pyrazol-1-yl)benzene sulfonamidato(2-)-, sodium
67905-39-9 | Aluminum, tris(triacontyl)-
67907-13-5 | Benzenesulfonic acid, 2-((4-((4-(((4-methylphenyl)sulfonyl)oxy)phenyl) azo)phenyl)amino)-5-nitro-, monosodium salt
68958-98-5 | Benzenesulfonic acid, 3-((4-((4-hydroxyphenyl)azo)-1-naphthalenyl)azo)-, monosodium salt
70209-93-7 | Benzoic acid, 2-((8-((4-chloro-6-((4-(6-methyl-7-sulfo-2-benzothiazolyl)phenyl)amino)-1,3,5-triazin-2-yl)amino)-1-hydroxy-3,6-disulfo-2-naphthalenyl)azo)-, tetrasodium salt
70209-98-2 | Benzenesulfonic acid,2-((1-(2-chloro-6-methylphenyl)-4,5- dihydro-3-methyl-5-oxo-1H-pyrazol-4-yl)azo)-4-((4-chloro-6-(phenylamino)-1,3,5-triazin-2-yl)amino)-, monosodium salt
70528-90-4 | 3-Pyridinecarbonitrile, 5-((4-chloro-2-nitrophenyl)azo)-1-ethyl-1,2-dihydro-6-hydroxy-4-methyl-2-oxo-
71735-65-4 | Tetrasodium(8-hydroxy-7-((2-hydroxy-7-sulpho-6-((4-((2,5,6-trichloro-4-pyrimidinyl)amino)phenyl)azo)-1-naphthyl)azo)naphthalene-1,3,6-trisulphonato(6-))cuprate(4-)
72252-58-5 | Chromate(4-), (mu-(3-((2-(amino-kappaN)-5- (hydroxy-kappaO)- 6-((2-(hydroxy-kappaO)-5-nitro-3-sulfophenyl)azo-kappaN1)-7-sulfo-1-naphthalenyl)azo-kappaN1)-2-hydroxy-5-sulfobenzoato(8-)))di-, tetrasodium
72828-69-4 | Benzenesulfonic acid, 2-((5-amino-3-methyl-1-(3-sulfophenyl)-1H-pyrazol-5-yl)azo)-, 1,1'-((1-methylethylidene)di-4,1-phenylene) ester, disodium salt
73309-47-4 | 1-Naphthalenesulfonic acid, 4,4'-((4,6-dihydroxy-1,3-phenylene)bis(azo))bis-, disodium salt
78181-99-4 | 1-Propanaminium, 3-((2-cyano-3-(4-(diethylamino) phenyl)-1-oxo-2-propenyl)oxy)-N-(2-((2-cyano-3-(4-(diethylamino) phenyl)-1-oxo-2-propenyl)oxy)ethyl)-N,N-dimethyl-, chloride
85392-59-2 | Iron, [.mu.-[3-[[5-[[2,4-dihydroxy-5-[(2-hydroxy-3-nitro-5-sulfophenyl) azo]phenyl)phenyl)methyl-2,4-dihydroxyphenyl) azo)-2-hydroxy- 5-nitrobenzenesulfonato(6-)))di-
112484-44-3 | 2,7-Naphthalenedisulfonic acid,4-amino-6-((4-(((4-((2,4-diaminophenyl)azo)phenyl) amino)sulfonyl) phenyl)azo)-5-hydroxy-3-((4-nitrophenyl)azo)-, potassium sodium salt
130201-55-7 | Benzenesulfonic acid, 3,3'-[[6-(4-morpholinyl)-1,3,5-triazine-2,4-diyl]bis[imino[2-(acetylamino)-4,1-phenylene]azo]]bis-, disodium salt

IV. Revisions to the TSCA Section 4(e) Priority Testing List

A. Chemicals Added to the Priority Testing List

1. Benzene, 1,3,5-tribromo-2-(2-propenyloxy)- —i. Recommendation. Benzene, 1,3,5-tribromo-2-(2-propenyloxy)- (CAS No. 3278-89-5) is recommended to obtain unpublished exposure, environmental fate, health effects, and ecological effects data.

ii. Rationale for recommendation. Benzene, 1,3,5-tribromo-2-(2-propenyloxy)- is predicted to persist and bioconcentrate. There are very few toxicity data. Depending on the exposure, environmental fate, health effects, and ecological effects data that are provided, the EPA may consider benzene, 1,3,5-tribromo-2-(2-propenyloxy)- for their PBT Initiative.

iii. Supporting information. Benzene, 1,3,5-tribromo-2-(2-propenyloxy)- is produced in excess of 500,000 pounds per annum and used as a flame retardant for expanded polystyrene insulation board. The predicted BCF of benzene, 1,3,5-tribromo-2-(2-propenyloxy)- is 4,019. The rat oral LD50 was 5 grams/kilograms (g/kg) and it was not mutagenic in an Ames assay. A TOXLINE search identified one report that benzene, 1,3,5-tribromo-2-(2-propenyloxy)- was detected in sewer slime (Ref. 13).

iv. Information needs. The ITC needs exposure, environmental fate, health effects, and ecological effects data. Only studies where benzene, 1,3,5-tribromo-2-(2-propenyloxy)- is > 90% of the test substance by weight should be submitted.

2. 1-Triazene, 1,3-diphenyl—i. Recommendation. 1-Triazene, 1,3-diphenyl (diazoaminobenzene) (CAS No. 136-35-6) is being recommended to obtain annual production/importation volumes and trends, use, exposure, and health effects data.

ii. Rationale for recommendation. No occupational exposure limits have been established by the American Conference of Government Industrial Hygienists (ACGIH), the National Institute for Occupational Safety and Health (NIOSH), or the Occupational Safety and Health Administration (OSHA). Occupational exposures have not been characterized and there are no estimates of the number of workers exposed. The ITC needs occupational exposure data from the uses of diazoaminobenzene, e.g., to manufacture dyes and insecticides.

iii. Supporting information. A recent National Toxicology Program Report indicated that diazoaminobenzene is metabolized in rats and mice to the known carcinogens benzene and aniline (Ref. 12). Although not tested for carcinogenicity, diazoaminobenzene is a predicted carcinogen based on its metabolism and similarity in toxic effects to benzene and aniline. Diazoaminobenzene is used as an intermediate, complexing agent, and polymer additive. It is an impurity in certain color additives used in cosmetics, food products, and pharmaceuticals. It may also be used as a propellant for molding of rubbers and plastics and as a coupler to promote adhesion of natural rubber to steel tire cords. Since diazoaminobenzene has semiconducting properties it may have applications in the semi conductor industry.

Diazoaminobenzene may put workers at a heretofore unrecognized increased risk of cancer if they are exposed in the workplace. Importation, production, use, and exposure information will assist in determining if diazoaminobenzene may need further testing to adequately assess potential hazards associated with occupational exposures.

iv. Information needs.—a. Recent non-CBI estimates of annual production or importation volume data and trends.

b. Use information, including percentages of production or importation that are associated with different uses.

c. Estimates of the number of humans and concentrations of diazoaminobenzene compounds to which humans may be exposed from use, manufacturing, or processing.

d. Health effects data including pharmacokinetics, genotoxicity, subchronic and chronic toxicity, reproductive, and developmental toxicity, and any human data from occupationally exposed workers. This information is needed in order to adequately access the extent and degree of exposure and potential hazard associated with diazoaminobenzene.

e. Only studies where diazoaminobenzene is ≥90% of the test substance by weight should be submitted.

B. Chemicals Removed From the Priority Testing List

1. Acetone. Acetone was designated in the ITC's 28th ITC Report for reproductive effects testing as a chemical with a low confidence reference dose or RfD (56 FR 41212, August 19, 1991) (FRL-3937-4). Acetone is being removed from the Priority Testing List because it was in the OECD SIDS program (see http://irptc.unep.ch/irptc/sids/sidspub.html volume 6) and because it is included in the EPA's VCCEP for reproductive effects and developmental toxicity testing (http://www.epa.gov/chemrtk/childhlt.htm). The EPA anticipates that under the VCCEP, tier 2 testing for prenatal developmental toxicity, reproductive and fertility effects testing will be conducted for acetone.

2. Twenty alkylphenols and alkylphenol ethoxylates. The ITC is continuing to review data on the alkylphenols and alkylphenol ethoxylates that were recommended in ITC's 37th ITC Report (61 FR 4188, February 2, 1996) (FRL-4991-6), 39th ITC Report (62 FR 8578, February 25, 1997) (FRL-5580-9), and 41st ITC Report (63 FR 17658 , April 9, 1998) (FRL-5773-5). At this time, the ITC is removing from the Priority Testing List, 9 alkylphenols and alkylphenol ethoxylates from the 37th ITC Report, 7 nonylphenol ethoxylates from the 39th ITC Report, and 4 alkylphenols and alkylphenol ethoxylates from the 41st ITC Report (see Table 5 of this appendix). The rationales for removing these alkylphenols and alkylphenol ethoxylates are provided as footnotes to Table 5 of this appendix.

Table 5.—Alkylphenols and Alkylphenol Ethoxylates Being Removed From the Priority Testing List
Report | CAS No. | Chemical name | Rationale
37 | 99-71-8 | 4-sec-Butylphenol | 1
37 | 104-40-5 | 4-Nonylphenol | 2
37 | 1638-22-8 | 4-n-Butylphenol | 2
37 | 9002-93-1 | Polyethylene glycol 4-(tert-octyl)phenyl ether | 2
37 | 9036-19-5 | Polyethylene glycol mono(octyl)phenyl ether | 3
37 | 14938-35-3 | 4-Pentylphenol | 2
37 | 27193-28-8 | (1,1,3,3-Tetramethylbutyl)phenol (mixed isomers) | 3
37 | 27193-86-8 | Dodecylphenol (mixed isomers) | 4
37 | 68987-90-6 | Poly(oxy-1,2-ethanediyl), .alpha.-(octylphenyl)-.omega.-hydroxy-, branched | 3
39 | 20427-84-3 | 2-[2-(4-Nonylphenoxy)ethoxy]ethanol | 2
39 | 37205-87-1 | Poly(oxy-1,2-ethanediyl), .alpha.-(isononylphenyl)-.omega.-hydroxy- | 2
39 | 68412-54-4 | Poly(oxy-1,2-ethanediyl), .alpha.-(nonylphenyl)-.omega.-hydroxy-, branched | 2
39 | 98113-10-1 | NP 9 | 2
39 | 127087-87-0 | Poly(oxy-1,2-ethanediyl), .alpha.-(4-nonylphenyl)-.omega.-hydroxy-, branched | 2
39 | 9016-45-9 | Poly(oxy-1,2-ethanediyl), .alpha.-(nonylphenyl)-.omega.-hydroxy- | 5
39 | 26027-38-3 | Poly(oxy-1,2-ethanediyl), .alpha.-(4-nonylphenyl)-.omega.-hydroxy- | 5
41 | 74499-35-7 | Phenol, (tetrapropenyl) derivs. | 4
41 | 68908-55-4 | Phenol, polybutene derivs. | 2
41 | 112375-88-9 | Phenol, polyisobutylene derivs. | 2
41 | 9014-92-0 | Poly(oxy-1,2-ethanediyl), α-(dodecylphenyl)-ω-hydroxy- | 2
Removal rationales:
1. Data developed from testing 4-tert-butylphenol (CAS No. 98-54-4) in response to the HPV Challenge program may be used to predict toxicity.
2. No domestic production or importation volumes were reported to the EPA in response to 1986, 1990, 1994, and 1998 IURs or no domestic production or importation volumes were reported to the EPA in response to the July 5, 2000 PAIR rule (65 FR 41371) (FRL-6589-1).
3. Data developed from testing phenol, 4-(1,1,3,3-tetramethylbutyl)- (CAS No. 140-66-9) in response to the HPV Challenge program may be used to predict toxicity.
4. Data developed from testing p-dodecylphenol (CAS No. 210555-94-5) in response to the HPV Challenge program may be used to predict toxicity.
5. Data developed from testing branched nonylphenol (CAS No.84852-15-3) in response to the HPV Challenge program may be used to predict toxicity.

There are 10 alkylphenols and alkylphenol ethoxylates remaining on the Priority Testing List (see Table 6 of this appendix).

Table 6.—Alkylphenols and Alkylphenol Ethoxylates Remaining on the Priority Testing List
Report | CAS No. | Chemical name
37 | 80-46-6 | 4-tert-Pentylphenol
37 | 88-18-6 | 2-tert-Butylphenol
37 | 98-54-4 | 4-tert-Butylphenol
37 | 1806-26-4 | 4-Octylphenol
37 | 25154-52-3 | Nonylphenol (mixed isomers)
37 | 84852-15-3 | Branched nonylphenol (mixed isomers)
39 | 27986-36-3 | 2-(Nonylphenoxyl)ethanol
41 | 1987-50-4 | Phenol, 4-heptyl-
41 | 72624-02-3 | Phenol, heptyl derivs.
41 | 140-66-9 | Phenol, 4-(1,1,3,3-tetramethylbutyl)-

3. Three DEBITS chemicals from the 46th ITC Report. In its 46th ITC Report, the ITC discussed 2 groups of DEBITS chemicals, polychlorophenols and polychlorobenzenethiols and chlorotrifluoromethylphenoxy benzenes (65 FR 75552, December 1, 2000) (FRL-6594-7). Two of the polychlorophenols and polychlorobenzenethiols (pentachlorothiophenol, CAS No. 133-49-3 and tetrachloropyrocatechol, CAS No. 1198-55-6) and two of the chlorotrifluoromethylphenoxy benzenes (p-toluidine, 5-chloro-.alpha.,.alpha.,.alpha.-trifluoro-2-nitro-N-phenyl, CAS No. 1806-24-2 and benzoic acid, 3-[2-chloro-4-(trifluoromethyl)phenoxy]-, 2-ethoxy-1-methyl-2-oxo, CAS No. 88185-22-2) were subsequently added to the Priority Testing List in the ITC's 47th ITC Report. All 4 of these chemicals were added to the July 26, 2001 PAIR rule (66 FR 38955) (FRL-6783-6). All of these chemicals, except pentachlorothiophenol, are being removed from the Priority Testing List because no production or importation data were submitted to the EPA in response to the 1998 IUR (10,000 pound reporting threshold) or the July 26, 2001 PAIR rule (1,000 pound reporting threshold).

4. Three DEBITS chemicals from the 47th ITC Report. In its 47th ITC Report, the ITC added 3 chloroalkenes to the Priority Testing List: 1,3-butadiene, 1,1,2,3,4-pentachloro-4-(1-methylethoxy)- (CAS No. 68334-67-8); 3-butenoic acid, 2,2,3,4,4-pentachloro-butyl ester (CAS No. 75147-20-9); and 3-butenoic acid, 2,2,3,4,4-pentachloro- (CAS No. 85743-61-9). The ITC is removing these 3 chloroalkenes from the Priority Testing List because no production or importation data were submitted to the EPA in response to the 1998 IUR.

5. Nine DEBITS chemicals from the 48th ITC Report. In its 48th ITC Report, the ITC added 5 chlorinated trihalomethyl pyridines, 2 trihaloethylidene bisbenzenes, 4 trichlorophenyldihydropyrazols and 3-chloro-2,6-dinitro-N,N-dipropyl-4-(trifluoromethyl) -benzeneamine to the Priority Testing List. The ITC is removing the 5 chlorinated trihalomethyl pyridines, 1 of the trihaloethylidene bisbenzenes (benzene, 1,1'-(2,2,2-trichloroethylidene)bis-), and 3 of the trichlorophenyldihydropyrazols (benzamide, 3-amino-N-[4,5-dihydro-5-oxo-1- (2,4,6-trichlorophenyl)-1H-pyrazol-3-yl; 3H-pyrazol-3-one, 5-((5-amino-2-chlorophenyl)amino) -2,4-dihydro-2-(2,4,6-trichlorophenyl)-; and benzamide, N-(4,5-dihydro-5-oxo-1- (2,4,6-trichlorophenyl)-1H-pyrazol-3-yl)-3-nitro-) from the Priority Testing List because no production or importation data were submitted to the EPA in response to the 1998 IUR or because the predicted BCFs were judged to be too low to warrant priority consideration at this time.

V. References

1. ITC. 1977. Initial Report of the TSCA Interagency Testing Committee (October 1, 1977) to the Administrator; Receipt of Report and Request for Comments Regarding the Priority Testing List of Chemicals. Federal Register (42 FR 55026-55080, October 12, 1977).

2. ITC. 1978a. Second Report of the TSCA Interagency Testing Committee (April 10, 1978) to the Administrator; Receipt of Report and Request for Comments Regarding the Priority Testing List of Chemicals. Federal Register (43 FR 16684-16688, April 19, 1978).

3. ITC. 1978b. Third Report of the TSCA Interagency Testing Committee (October 2, 1978) to the Administrator; Receipt of Report and Request for Comments Regarding the Priority Testing List of Chemicals. Federal Register (43 FR 50630-50635, October 10, 1978).

4. ITC. 1979. Fifth Report of the TSCA Interagency Testing Committee (November 8, 1979) to the Administrator; Receipt of Report and Request for Comments Regarding the Priority Testing List of Chemicals. Federal Register (44 FR 70664-70674, December 7, 1979).

5. ITC. 1980a. Sixth Report of the TSCA Interagency Testing Committee (April 9, 1980) to the Administrator; Receipt of Report and Request for Comments Regarding the Priority Testing List of Chemicals. Federal Register (45 FR 35897-35910, May 28, 1980).

6. ITC. 1980b. Seventh Report of the TSCA Interagency Testing Committee (October 24, 1980) to the Administrator; Receipt of Report and Request for Comments Regarding the Priority Testing List of Chemicals. Federal Register (45 FR 78432-78446, November 25, 1980).

7. ITC. 1982. Eleventh Report of the TSCA Interagency Testing Committee (November 3, 1982) to the Administrator; Receipt of Report and Request for Comments Regarding Priority Testing List of Chemicals. Federal Register (47 FR 54625-54644, December 3, 1982).

8. ITC. 1984. Fourteenth Report of the TSCA Interagency Testing Committee (May 8, 1984) to the Administrator; Receipt of Report and Request for Comments Regarding Priority Testing List of Chemicals. Federal Register (49 FR 22389-22407, May 29, 1984).

9. ITC. 1985. Sixteenth Report of the TSCA Interagency Testing committee (May 2, 1985) to the Administrator; Receipt of Report and Request for Comments Regarding Priority Testing List of Chemicals. Federal Register (50 FR 20930-20939, May 21, 1985).

10. ITC. 1986. Nineteenth Report of the TSCA Interagency Testing Committee (October 31, 1986) to the Administrator; Receipt of Report and Request for Comments Regarding Priority Testing List of Chemicals. Federal Register (51 FR 41417-41432, November 14, 1986).

11. ITC. 1989. Twenty-fifth Report of the TSCA Interagency Testing Committee (November 1, 1989) to the Administrator; Receipt of Report and Request for Comments Regarding Priority Testing List of Chemicals. Federal Register (54 FR 51114-51130, December 12, 1989).

12. National Toxicology Program (NTP). 2002. Toxicity Report Series Number 73. NTP report on the metabolism, toxicity, and predicted carcinogenicity of diazoaminobenzene (CAS No. 136-35-6), U.S. Department of Health and Human Services, Public Health Service, National Institutes of Health. NIH Publication No. 01-4412. Draft abstract available online at:http://ntp-server.niehs.nih.gov/htdocs/ST-studies/tox073.html

13. Sauer J., Antusch E., and Ripp C. 1997. Monitoring of organic pollutants in sewer systems by sewer slime analysis. pp. 49-69. In Haberer K (ed.) Water. VCH Publishers, Inc., New York, NY. ISBN 3-527-28820-1.

14. Walker JD. 1993. The TSCA Interagency Testing Committee, 1977 to 1992: Creation, structure, functions and contributions. pp. 451-509. In J.W. Gorsuch, F.J. Dwyer, C.G. Ingersoll and T.W. La Pointe (eds.), Environmental Toxicology and Risk Assessment: Second Volume, ASTM STP 1216. ASTM, Philadelphia, PA.

VI. TSCA Interagency Testing Committee

Statutory Organizations and Their Representatives

Council on Environmental Quality

Vacant

Department of Commerce

National Institute of Standards and Technology

Robert Huie, Member

Barbara C. Levin, Alternate

National Oceanographic and Atmospheric Administration

Thomas P. O'Connor, Member

Teri Rowles, Alternate

Environmental Protection Agency

Paul Campanella, Member

David R. Williams, Alternate

National Cancer Institute

Alan Poland, Member

David Longfellow, Alternate

National Institute of Environmental Health Sciences

Scott Masten, Member, Chair

William Eastin, Alternate

National Institute for Occupational Safety and Health

Mark Toraason, Member, Vice Chair

Dennis W. Lynch, Alternate

National Science Foundation

A. Frederick Thompson, Member

Marge Cavanaugh, Alternate

Occupational Safety and Health Administration

Val H. Schaeffer, Member

Lyn Penniman, Alternate

Liaison Organizations and Their Representatives

Agency for Toxic Substances and Disease Registry

William Cibulas, Member

Daphne Moffett, Alternate

Consumer Product Safety Commission

Jacqueline Ferrante, Member

Treye Thomas, Alternate

Department of Agriculture

Clifford P. Rice, Member

Laurau L. McConnell, Alternate

Department of Defense

Barbara Larcom, Member

Kenneth Still, Alternate

José Centeno, Alternate

Department of the Interior

Barnett A. Rattner, Member

Food and Drug Administration

David Hatten, Alternate

National Library of Medicine

Vera W. Hudson, Member

National Toxicology Program

NIEHS, FDA, and NIOSH Members

Counsel

Scott Sherlock, OPPT, EPA

Technical Support Contractor

Syracuse Research Corporation

ITC Staff

John D. Walker, Executive Director

Norma S. L. Williams, Executive Assistant

TSCA Interagency Testing Committee, Office of Pollution Prevention and Toxics (7401M), Environmental Protection Agency, 1200 Pennsylvania Ave., NW., Washington, DC 20460; telephone number: (202) 564-7527; fax number: (202) 564-7528; e-mail address: williams.norma@epa.gov; url: http://www.epa.gov/opptintr/itc.

[FR Doc. 02-19230 Filed 7-29-02; 8:45 am]

BILLING CODE 6560-50-S